DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2020. For purposes of this listing, long-term residents, as defined in section 877(e)(2), are treated as if they were citizens of the United States who lost citizenship.

SUPPLEMENTARY INFORMATION:

Last name | First name | Middle name/initials
ABAYA | JOSE | PAOLO YUCHENGCO
ABDUL AL SAUD | ABDULLAH | SAUD
ABE | KENICHIRO
ABEL | ELGA | CHRISTINA
ABI ABDALLAH | NAJIB | P.
ABRAMS | MARIO | EVERARDO
ABRAR | BABAK
ADAMOVICH | YARDEN | LEHAVI
ADCOCK | BENJAMIN
ADLER | MICHAEL | FRED
ADLER | PETER | EDWARD
ADRIAENSENS | JIMMY
AGRAWAL | PARAS | M.
AGRAWAL | PUSHPA | K.
AHLERS | JOERN
AHSAN | SYED | ALI
AHUJA | ANAND
AHUJA | SARLA | M.
AHUJA | SARLA | M.
AILLOUD | ROBERT | WILLIAM
AINSWORTH | KATHRYN | GRACE
AISTRICH | MATTI | M.
AL MOSHEKY | ZAID | A.
ALABISO | DUCCIO
ALDERSON | AKI
AL-GHOREABI | NEZAR | MOHAMMED
ALHARBI | AHMAD | IBRAHIM
ALI | HASSAN | O.
ALI | PRASANNA
ALIREZA | TAMARA | GHASSAN
ALKON-FISHER | MARGARET | RAY
ALLIN | ROBERT | W.
ALMARZOOQI | THURAYA | RAED
ALON | HAGIT
ALONSO | MONSERRAT
ALONSO | ROCIO
ALPERSTEIN | DION | MANGALISO
AL-QATTAN | DANA
AL-SHARHAN | NADIA | RASHEED
AL-SHARHAN | SARA | RASHEED
AL-SHARHAN | SUMAIYA | RASHEED
ALTHAUS | KENNETH | SEBASTIAN
ALTHOLZ | LIRON
ALVAREZ | NOE
ALVERANGA | SHIRLENE
AMBROS | SHARON | ELAINE
AMES | ANNE | MARGARET
AMIN | RAJESHWARI | J.
AMIYA | YOKO
AMMANN | BENJAMIN | ROWE
ANDERS | MIA | IRENE
ANDERSEN | PAULETTE | PTAK
ANDERSON | CHARLENE | MARIETTA
ANDERSON | MARY | N.
ANDERSON | MORRIS | ALLAN
ANDO | MASAHIRO
ANDRASZEK | ALICJA | JULIA
ANDRASZEK | ANNA | KINGA
ANDRASZEK | BARBARA | JOANNA
ANDRASZEK | TOMASZ | JULIUSZ
ANDRESEN | TOM
ANDRIANI JR. | CORRADO
ANEMA | TED
ANG | RACHEL | SWEE PENG
ANG | TIFFANY | LIXIAN
AOKI | YOUTA | BRANDON
AONO | HIROJI
APT | ISABELLE | M.
AQUINO | CARLOS | MIGUEL
ARAUZ | MANUEL | J.
ARCAMONE | MICHELE
ARM | CHRISTOPH | ANDREAS
ARROWSMITH | JACQUELINE | VALERIE
ARSENAULT-LANGLOIS | MARIE-JOSEE
ARTHUR | WALTER | THOMAS
ARTOLLE | ALEX
ARTS | ERIC | J.
ARVE | MORTEN
ASAKAWA | SACHIYO
ASAKURA | HIDETOSHI
ASAKURA | YOKO
ASELL | FOLKE | R.
ASPINALL | BARBARA | LYNNE
ASSAD | ALANA | LOUISE
ASTLEY | KENNETH | GEORGE
ASTLEY | LINDA | ANN
ATKINSON | ALAN
AUDIBERT | ALBERTINE | ALESIA JOY
AUGER | ANTOINE
AVIV | TEL
AW | KAILING | GABRIELLE
AWAN | FAUZIA | SALIM
AZHA | NUR QISTINA | BINTI ZOAL
AZZARONE | GIUSEPPE
BABROWSKY | CHRISTINE | H.
BACHEW | PAUL
BAE | MIYOUNG
BAE | SANG | HO
BAERI | SHARON | MIRIAM
BAETEN | NICOLE | JEANNE
BAGCHI | DEEPANWITA
BAGDADY | SUMMER | ABDUALZIZ
BAIL | JEAN | MARIE
BAILEY | SAYURI | T.
BAK | THOMAS
BALAKRISHNAN | LAKSHMI | B.
BALDASSI | BLAKE
BALL | ALEXANDRE | CHARLES
BALL | ANDREW | T.
BALLHAUS | MICHAEL | A.
BALSARA | THRITY | CYRUS
BALTZAN | MARCEL | ALEXANDER
BAMFORD | PATRICK | CHARLES
BANCROFT | DAVID | J.
BANCROFT | MARGARET | R.
BANERJEE | GAURAB
BANERJEE | SUCHISMITA
BARABANOV | DMITRI | NIKITOVICH
BARANES | HELENE
BARANOWSKI | ANN
BARATOFF | CYRIL
BARBARA | PATRICIA | J.
BARDELLI | ANGELA
BARDEWYK | JAN
BARELMANN | KELLY | MARIE
BAROUD | CHARLES
BAROUK-HASLER | NANCY | RACHEL
BARRETT | SHIRLEY | J.
BARRETTE | NICOLE | JEANNINE
BARTELS | DIRK
BARTON | ALISTAIR | RAINE SINCLAIR
BARYLIUK | NESTOR | W.
BARYLIUK | SIMONE | S.
BASSANI | PAOLO | WILLIAM
BASTANI | HANIEH
BASTIDE | VICTORIA | JENNY
BASU | ESHA
BATTEFELD | THORSTEN | J.
BAUDESSON DE CHANVILLE D'ARC | PIERRE
BAUGH | MARK | THOMAS
BAUMAN | PAUL | DAVID
BAUMANN | DIANE | CHRISTINA
BAUNGAARD | GREGERS
BAUR | HANNA | CAROLINE
BAUTISTA | ISABELLE
BAUTOVICH | TANYA | MARY
BAYER | LINDA | MAY
BAYSTON | ASHLEY | ROBIN
BEAN | AYAKA | M.
BEANLAND | RICHARD | J.
BEARDSLEY | SALLY | ANNA
BEAUBIEN | KAREN | FRANCES
BEAUDRY | COLETTE | MARCELLA
BEAUPRE | JOANN
BEAUPRE | PETER | E.
BECCARIA | ARMANDO
BECK | JAMES | FRIEDRICH
BECK | JENNIFER | LEIGH
BECKER | ROBERT | U.
BECKER | THOMAS
BECKLEY | TYLER | COLE
BEGGS | CATHERINE | RUML
BELANGER | MARTIN
BELFRAGE | NICOLAS | JOHN
BELLARE | GURUDUTT | R.
BELLARE | NIRMALA | G.
BELLONI | VITTORIO
BELZIL | DENISE
BENDER | ALEXANDER | GEORGE
BENIKE | KARL
BENNET | BRIAN | DANIEL
BENSTER | MICHAEL | I.
BERCKEMEYER | TALIA | MARISA
BERGOMI | ALEXIS | JOHN CHARLES
BERGSTEN | BJORN
BERLIN | JENNIFER | M.
BERLIN | SHELLY | M.
BERNAZZANI | ODETTE
BERNDT | SIMONE
BERNET-ROLLANDE | ELEONORE | KAREN
BERNET-ROLLANDE | EMERIC | YAN
BERTELE | ANDREA
BERTHELEMOT | REMI
BERTOCCHI | GRAZIELLA
BERTRAM | AUDREY | ANN
BERTSCH | ANDREAS | NOEL
BESSETTE | GERALD | HOMER
BEST | ROBERT | J.
BEYROUTI | ARLETTE
BEZIER | HONORIO
BHATIA | MEGHA
BHATIA | SNEH | PAL
BHIROMBHAKDI | PALIT
BHOJWANI | ANMOL
BIA | ALEXIA | ANNE
BIBBY | RICHARD | H.
BIEG | MARTIN | THOMAS
BIER | DAVID | A.
BIGLIENI | WILLIAM | LEE
BILLINKOFF | SUSAN | DALE
BILLS | THOMAS | M.
BILOTTI | MARIO | EUGENIO
BISCHOFBERGER | STEPHAN | ANDREAS
BISSEGGER | RETO | M.
BISTER | HELGA
BLACKWOOD | BERT | W.
BLACKWOOD | MURIEL | L.
BLANCHARD | DAVID | P.
BLANCHARD | MARIE-EMMANUELLE | ANDREE
BLANCHARD | MICHELLE | RENEE
BLATTLER-KOLLER | BRIGIT
BLUMBERG | STEPHEN | LOUIS
BLUMER | BRENDAN | FRANCIS
BOCCARA | KAKINO
BOCHERENS | FRANCOIS | MARC
BODTKER | ASTRID | CHRISTINA SEJERSTED
BOHLMAN | BYRON
BOHNER | DEBORAH
BOIRA | FRANCISCO | D.
BOKSANYI | SABINE
BOLDT | TED | ANDREW
BOND | ELISABETH
BOND | JOHN
BONDAVALLI | ALEJANDRO
BONNEY BRUELLMANN | CLAIRE | ELLEN
BOONE | ERIC | DANIEL
BOOTSMA | SHARYLEE | DAWN
BORGEAUD | EMILY | HELENE MARIE
BORLAK | MARIE-ODILE
BORMANN | TANJA
BORST | NORA
BOUCART | KATHERINE | MARLO
BOUCHER | BRIGITTE
BOUGON | ALEXIS
BOUMA | JETSKE | ANNE
BOURGEOIS | ANNA | LUTNICKI
BOURGEOIS | NICOLE | DIANE
BOUTIER | JEAN-PASCAL
BOW | HELEN | KATHERINE
BOWERS | ELIZABETH | CATHERINE
BRADLEY | JAMES | ROSS
BRADLEY | JEANETTE | A.
BRADLEY | JONATHAN | R.
BRADLEY | KENNETH | J.
BRADLEY | ROSEMARY
BRADY | BARRY | HUGH
BRAMALL | SUSAN | E.
BRANDT | WILLEM | REINDER
BRASH | CHRISTOPHER | LAW
BRASS | HELEN | JEAN
BRAUN-HARTWIG | BENJAMIN | UELI
BRAUSER | THOMAS | HENNING
BREECH | MATTHEW | DAVID
BREM | CHRISTOPH | K.
BRENNAN | SEAMUS
BREVIG | KAHN
BRICE | FRANCK
BRINGA | TONE | R.
BRISSON | BRIGITTE
BROCK | WILLIAM
BRODEUR | FRANCINE
BRODEUR | ROBERT
BRODIGAN | MARTIN | P.
BRONNER | TANIS | LESLEY
BROOKS | ISABEL | SAVANNA
BROOKS | ROI | CHRISTOPHER
BROWN | DANA | M.
BROWN | GARY
BROWN | JACK | ADAM
BROWN | KEVIN | D.
BROWNLEE | DONNA | BURGESS
BROWNSTEIN | HOWARD
BRUDNEY | CHARLES | SCOTT
BRUEGEMANN | BJOERN | A.
BRUGGER | RAHEL | CHRISTINA
BRUNEAU | MARK | R.
BRUNGGER | OLIVER | PASCAL
BRYAN | GEORGIA | ANN
BUCHANAN SMITH | RUPERT | JAMES
BUETTEL | KEVIN | MICHAEL
BUHLER | MAX | ALBERT
BULLIVANT | ANDREW | GEORGE
BUNNY | KIM | L.
BUNTON | MARIA | J.
BUREAU | BRUNO | OLIVIER
BURES | HYNEK
BURKE | CATHERINE | GRACE VAN DUSEN
BURKE | RICHARD
BURKHART | DAVID | RALPH
BURNETT | EMILY | ROSE
BURTIN | CHRISTIANE | FRANCOISE
BUSCA | BARBARA | LOU
BUSCH | YVETTE | MARCELLA
BUTLER | JOHN | LAWRENCE
BUUNEN | MARK
BYRNE | CIARA | ANNE
BYRNES | GREGORY | J.
BYUN | HAJUNG
CABLE | CHRISTOPHER | RANDOLPH
CABRALES | JUAN | DAVID
CAHEN | CECILE | SANDRA
CALLAN | JOHN | P.
CAMERON | CHRISTOPHER | JAMES
CAMP | MATTHEW | IAN
CAMPBELL | KENNETH | WILLIAM
CAMPBELL | MARY-ANN
CAMPEAU | NORMAN
CANALES | JUAN | MANUEL
CAPPA | PATRICK | MARCEL
CARLE | VALERIE | MARIE MARTINE
CARPENTER | THOMAS | SELBY
CARPENTIER | DEANNA | MICHELLE
CARRINGTON | JOHN
CARTEAU | ALEXANDRE
CASARI | NICOLETTA
CASE | GEOFFREY | LEWIS
CASSAR | JESSICA | MARIE
CASTELLUCCI | CARLO
CASTLE | JOHN | RICHARD
CATTLE | PHILIP | RICHARD
CAVENEY | ANDREW | DUNCAN
CECCOTTI | NADIA | L.
CEDRONI | JEAN-PIERRE
CELLE | JOSETTE | BRICAUD
CELLICH | MARK | AUSTIN
CERRONE | MARC
CHADBOURNE | BARBARA | M.
CHAE | TAEJOO | GRAND
CHAMBERS | EDWARD
CHAMBERS | JOHN | DAVID
CHAN | AMANDA | CHEE YUN
CHAN | EDWARD
CHAN | NGAN | YUNG
CHAN | NINA
CHAN | PETER | W.
CHAN | RICKY
CHAN | SCARLET | SEE KA
CHAN | SHING | YAN
CHAN | SZE | C.
CHAN | TING | FUNG
CHANG | CONRAD | TZE KONG
CHANG | JASON | KANG-LUNG
CHANG | SUNHOON
CHANG | YI
CHANG | YUN-PENG
CHAO | FALTON | TAIN SHIAN
CHAPMAN | AMANDA | MEGAN
CHAPMAN | FRANCIS | ALLAN
CHAPMAN | MICHELLE | THERESA
CHAPPELLE | ANNE | MARIE
CHARBONNEL | MELISSA | KAY
CHARNEY | JODY | LEE
CHASHECHKINA | EKATERINA
CHAU | MARGARET | Y.
CHAY | SEUNG | JAE
CHEIFETZ | JONATHAN | SHMUEL
CHEN | CHIEN | CHEN
CHEN | CHIH | MING
CHEN | CHING | MEI
CHEN | CHIUEH-HUA
CHEN | CHUN | M.
CHEN | CHUN-REN
CHEN | KUANG | WU
CHEN | LAN
CHEN | LIAT | TSING-YEE
CHEN | LISA | HUANG
CHEN | YANG
CHEN | YINHUI
CHEN TUNG | JENNIFER | HUI
CHENG | HUI | FEN
CHENG | LAWRENECE | CHICH-HAO
CHENG | LIZA | P.
CHENG | RITA
CHENG | YUNG-CHUN
CHERN | KENG | MING
CHERN | WENYING
CHERRY | CHRISTOPHER | ALOYSIUS
CHESSEX | MARILYN | MADELEINE
CHEUNG | ERICA | CHEUK YIU
CHEUNG | JANICE | MARIA WING HEI
CHEUNG | LOUISA | YUEN WAH
CHEUNG | SAMANTHA | WING-SEEN
CHEUNG | SUM | MAY
CHEVALIER | GILLES | FRANCOIS
CHI | MING | SHEN
CHI KAO | CHING | PING
CHIA | CHING-WEN
CHIA | MENG | KOON
CHIANG | ERIC | FRANK
CHIAPPE | ESTEBAN
CHIDAMBARAN | LAKSHMINARAYANAN
CHIK | WING | HONG
CHIN | PYONGHO
CHIU | JASON
CHIU | WINNIE | VENG-LUN
CHNG | IVAN | IRVING
CHO | YOUNG | RAE
CHOI | EUJEAN
CHOKA | KATHERINA | P.
CHONG | RACHEL | YING VUN
CHOONG | AUDREY | JIA YUAN
CHOUDHRY | NETAN
CHOW | SAI | HING
CHOW | SAI | KEUNG
CHOY | ANDY
CHRETIEN | KAREN | LOUISE
CHRISTECK | MARY | ELIZABETH
CHRISTENSON | ELSIE | MARIE
CHRISTOPHER | KELLY | ANNE
CHUA | CEDRIC | RUIHENG
CHUI | PING | YU
CHUN | JUNG | YEOB
CHUNG | BONNIE | WAI PING
CHUNG | KIM | SAU
CHUNG | LUN | CHEUNG
CHUNG | YOUN | HO
CHUNG LO | JAMES | CZE
CHURCH | TERI
CHURTON | HENRIETTE | SUSAN MACHTELD
CHYLE | HARMINDER | K.
CICCOGNANI | DIANA
CLARK | EMILY | BARBARA
CLARK | JONATHON | J.
CLARK | JULIAN
CLARK | TREVOR | MICHAEL
CLARKE | SALLY | ANNE BARROW
CLEMENTS | WILLIAM | BLUET
CLIFFORD | DORTE
CLINCHY | BIRGITTA | C.
CLINTON | JAMES
CLINTON-MARSH | KIM
CLOCKSIN | WILLIAM | FREDERICK
CLUCAS | ALAN | T.
CLUCAS | CORINNE | M.
COCHRANE | CARLOS | AUGUSTO
COCKERILL | MARIA | J.
COE | COLIN
COE | CORNELIA | JOAN
COHEN | AARON
COHEN | AVNER
COHEN | DANA
COHEN | JEFF | ISAAC
COHEN | YARDEN
COHEN-BENITEZ | DANIEL
COLANGELO | MAURO
COLE | CASEY | JAMES
COLFLESH | SAMUEL | FOY
COLOMBANA | NORMA | L.
COLON | LYDIA
COMET | SOPHIE | SANDRINE
COMINETTI | NICOLAS
CONETTI | CHRISTINA | M.
CONETTI | SERGIO
CONRAD | HILARY | KATE
COOK | BENJAMIN | E.
COOK | HARRY | M.
COOPERSMITH | PENINA | SUSAN
COPTY | EMILE
CORDIAL | ALICIA | ROSE
CORNELL | KIMBERLY | ANN
CORNFIELD | LAURETTA | LYNN
COSTIN | KYLIE | ELIZABETH
COUGHLAN | JAMES
COUGHLAN | NATHALIE
COUGHLAN | PAUL
COUTURE | DANIELA | SANDRA
COX | DAVID | CLARIDGE
COX | RISA | IMAI
CRAFT | MARK | ALAN
CRAIG | BRIAN | LEE
CRANMORE | CHRISTIAN | ROBERT
CRAWFORD | DYLAN
CRAWFORD | HELENE
CRAWFORD | JAMES | DUNCAN LAING
CRAWFORD | KAITLIN
CRAWFORD | MARC | J.
CREALEY | SEAN | PETER
CRERAR | LYNNE | ELIZABETH
CRESSMAN | RUTH
CRIVELLI | MARIA | TERESA
CROCKER | PETER | JOHN
CRONDAHL | MICHAEL | ARTHUR
CROSETTO | LORENZO
CROWHURST | LORI
CROWLEY | NICOLAS | WIKSTROM
CUBBERLEY | SANNE
CUCHET | BENOIT | J.
CUI | ENRUO
CUI | PETER | XIANFENG
CURRAN | RANDAL
CURRIE | DAVID
CURRIE | MOIRA | P.
CURZI-CZAIKA | GINA | MARIE
DAGGUPATI | HITESH | CHENCHURAM
DAHL | JEFFREY | BRUCE
DAILEY | TIMOTHY | CHARLES HAMILTON
DAILY | BRADLEY
D'ALCARAVELA | JOAO | A.
DALE | ERICA
DALE | MICHAEL | P.
DALENSTAM | JAN-ANDERS
DALY | KATHLEEN
DAN | NORIYUKI
DANG | LORENA | CARMEN
DANIEL | GLENYS | A.
DANIEL | PETER | J.
DARBYSHIRE | LYNN
DASTOLFO | MEGAN | E.
DAVENPORT | ANTONIE | A.
DAVEY | EMMA | MARY
DAVEY | GLENN
DAVID | LOU GRETA | VILIJA
DAVID SMITH | ANTONY | MICHAEL
DAVIES | ELAINE | ANNE
DAVIS | BARBARA | NANCY
DAVIS | JOHN | THOMAS
DAVIS | YAAKOV | NAFTALI
DAWSON | AMANDA
DAWSON | FIONA | T.
DAWSON | MARIE | T.
DAY | MICHAEL | WARREN
DAY JR | MAURICE | JEROME
DE ABREU | FRANCISCO | R.
DE BOER | JOHANNES | F.
DE CARVALHO | ERIK | CONOLLY
DE GIORGIO | BEATRICE | GRAZIA
DE GRANDPRE | HELENE | MARIE FLORENCE
DE GROOT | MARCIA
DE LETTENHOVE | ELISABETH | KERVYN
DE LORENZO | FERRUCCIO | FRANCESCO
DE PARSCAU DE PLESSIX | FRANCIOS MARIE | CHRISTOPHE
DE VEER | GERARDO
DEFEUDIS | PATRICIA | ANN
DEL CARMEN | JOAQUINA
DEL VECCHIO | CHRISTINA | ELLEN
DELATTRE | CATHERINE
DELATTRE | PATRICK
DEMPSEY | LAYTON
DEMPSEY | PATRICIA
DENDA | CHRISTOPHER | RICHARD
DENG | CHIA-LING
DENLEY | RODERICK
DENNY | CHRISTOPHER | JOHN MICHAEL
DEPLAEDT | PAUL | EDWIN
DEREOBALI | NECMIYE
DERISH | WAYNE
DERMAKE | AARON
DERRETT | MARION | E.
DES MONSTIERS-MERINVILLE | MARIE-HELENE
DESCHAMPS | BENOIT
DESMOND | STEPHEN | JOHN
DESSOLLE | EVA | M.
DESSOLLE | OLIVIER
DESY | ALBERT | JEAN-FRANCOIS
DETTLAFF | KATHLEEN | HALL
DETTWILER | STEVEN | W.
DEVAM | MARGA
DEVARAJAN | TINESH | BREDAN
DEVASAR | ANJU
DEVASAR | ASHISH
DEWEY | PETER
DEXTER | JEFFREY | KANNER
DHONDT | LUC | R.
DI CAPO | ALFONSO
DICKMAN | SHARRON | O'BRIEN
DICKSON | JENNIFER | A.
DICKSON | MATHEW | J.
DIGILIO | LAURA
DINGER | THORSTEN
DINSE | MICHAEL | RUDOLPH
DIONNE | NICOLE | G.
DITCHFIELD | ROBERT
DITTMAR | STEFAN
DIXSON | ELIZABETH | CURRY
DOERMER | GEBHARD | H.
DOERMER | GISELA | A.
DOLGAIA | YEKATERINA | OLEGOVNA
DOMONE | PETER | G.
DONOVAN | MATHEW | JAMES
DOUGHTY | SIMON
DOUGLAS | DEANNE | JULIE YORK
DOUGLAS | JAMES | VINCENT YORK
DOUGLAS | JOHN | MARTIN
DOUGLAS | JUSTINE | AMY YORK
DOUGLAS | SOPHIE | LOUIS YORK
DOWNER | GEOFFREY | F.
DOWNER | SUSAN | L.
DRIESSEN | SEBASTINE | FELIX
DRUMMOND | MARY | ANNE
DUCHOSSOIS-ALLEN | CHRISTELLE
DUDHIA | AISHA
DUDHIA | ISMAEL
DUGAN-BRAUSE | EUGENE | JOSEPH
DULLY | CHRISTIAN
DUNLAP | CAITLIN | SPRINGER
DUNMAN | AUDREY
DUNSFORD-VARENNE | ANNE
DUPONT | FREDERIC | C.
DURANTEL | OLVIER
DURINGER | ISABEL | S LEVIN
DUTTA | PRADIP | K.
DUVAL | ROZEN | NATHALIE
DVALI | GEORGI
DY GAISANO | CHARLES | LOUIS
EALES | NICHOLAS | MATTHEW
EAMER | DAVID | J.
EAST | ROSEMARY | ELAINE
EASTAGTE | LANCE | OLAV
EASTHAM | VALERIA
EASTMENT | COLIN | A.
EASTMENT | JOY | MARGARET
EBERHART | ROLF
ECKERTZ | MICHAEL | HEINZ
EDDINGTON | SCOTT | DANIEL
EDGERTON | SYLVIA | LOWE
EDLEY | STEPHEN
EGAWA | MIYUKI
EGAWA | TAIZABURO
EGERER | CHRISTIAN | PETER
EHLERT | KARIN | BRIGITTE
EICHHORN | ERIKA | ANITA
EINHORN | LENA
EL KOMATI | FADI
ELAHIYOUN | ELHAM
ELLIS | BARBARA | S.
ELLIS | RICHARDS (DELETE S AT END) | S.
ELMIEH | FARDANEH
EL-WANNI | SHARRIF | IWAN
EMMENEGGER | ANNA
ENER | HAKAN
ENG | CHERYL
ENGEL | ARNOLD
ENGLER | COLIN | DENNYS
ENRIGHT | PAUL
ERB | GEORGE | KENNETH
ERIGUEL | SANDRA | YOUNG
ERIKSSON | GUNILLA
ERIKSSON | LARS
ERRUNZA | SHAWN
ERVIN | RAGANI | SEMAJ
ESMAIL | HANIF
ESMAIL | JAMILA
EUBEL | SARAH | BETH
EUFEMIO | ALICE
EUFEMIO | DEOGRACIAS
EUTSEY | KERICKA | DESARAE
EVANS | SHARON | ILENE
EVERTS | JAN | A.
EWING | MEGAN
EZRIN | JANET
FABRE | PIERRE | MARIE
FAIRFEILD | MICHAELA
FALK | EDELTRAUD
FALK | KLAUS
FANG | LI
FANGMEIER | KARL | H.
FANICO | LUIS | MARCELLO ALFAIATE
FARACE | ANDREA
FARAONE | PIERCE | AUGUSTUS MITCHELL
FARINA | VITTORIO
FARINA | VITTORIO
FARMER | JAMES | PATRICK
FAURE | MICHELINE | C.
FAWCUS | DEBRA | ANN
FAY | LEE | BOGLE
FEARNLEY | ALAN
FEARNLEY | DIANE | L.
FEBERWEE-HOCHSTETTER | JOHANNA | L.
FEHR | ALAN | JOY
FEHR | RICHARD | D.
FENG | JUN
FENTON | BRIDGET | C.
FENTON | JONATHON | M
FENTON | MORRIS | H.
FERMIN | KATHERINE | ELIZABETH
FERNANDEZ | VIRGINIA | ROSE
FERRAGAMO | VITTORIA
FERREIRA | ALBANO
FICKL | SUSANNE | MARIA
FILBERT | NATASHA | ANASTASIA
FILCHEL | DAMON | CAREY
FINN | THOMAS | EDWARD
FIORENTINO | NELLIE | ELIZABETH
FIRSTBROOK | DAVID | GEORGE
FISCHER | LUDWIG | MAX
FISCHER | SUSANNE | ELISABETH
FISHER | PAUL
FITZPATRICK | ANNE DURIO
FITZPATRICK | ELEANOR
FLANAGAN | JUNE | EILEEN MARIE
FLEMING | THOMAS | JOSEPH
FLETCHER | NICHOLAS | JAMES
FLOWER | BRIAN | DAVID
FLOYD | DANIEL | FRANKLIN
FOLOT | FRANCOIS | ROBERT
FOOTNICK | JULIA | TIVIA THERESE
FORDON | ANGELIKA
FORIER | JANICE | M.
FOROS | MARKOS | A.
FOUBERT | PHILLIP | P.
FOX | MAUREEN | KATHRYN
FOX | YEHUDA
FRAME | PATRICIA | ANN
FRANCK | DORIS
FRANK | JULIA | RITA
FRANK | PHILIPPE
FRANKE | LINDA
FRANKLIN | JOHN
FRANKLIN | RON | DANIEL
FRASER | ANDREW | GRAY
FREEDMAN | LEXIE | ANN
FREIRE | MARTA
FREITAS | KRIPA
FRERER | ERIC | PAUL
FREYE | BAERBEL | M.
FRICKER | JOSEPH | ALEXANDER
FRIEDLAN | AVRAHAM | YITZCHAK ELIYA
FRIEDMAN | AARON | MORDECHAI
FRIEDMAN | LYNN | MICHELE
FRIEDMAN | SHMUEL | H.
FROELICHER | LOUIS | ROBERT
FU | JINMIN
FUCHIGAMI | KUMI
FUJII | MACHIKO
FUJII | SACHIO
FUJIKURA | MIDORI
FUJIKURA | TADASHI
FUKAYAMA | RIA
FUKUI | RYO
FUKUOKA | SACHIE
FUKUOKA | TAKAO
FUKUYAMA | KIYOSHI
FULLER | MIMI | GENEVA JOHNSON
FUNG | WAI | LIN
FUNG | WING | SEE
FURIHATA | CHIZUKO
FURIHATA | KENICHI
FURUSHO | EMIKO
FUSCO | GENEROSO
GAA | JAMES | CLYDE
GAASCH | CAROLINE
GABILAN | DAVID | ANDRE
GABILAN | MARYLENE | EMILIE
GABRIEL | MONA | TATJANA
GAHLAUT | VIVEK
GAILLARD | CORINNE
GALANTAY | MARIE-THERESE
GALBRAITH | DAVID | W.
GANI | SARAH | MAY
GANNON | KEVIN | J.
GAPPMAIER | JOHANNES
GARDNER | CHRISTIAN | ALAN
GARDNER | DIANA | LYNN
GARLAND | GEORGE
GAROFALO | EDUARDO | D.
GARRETT | BRUCE
GARRETT | LESLIE
GARRETTE | CARLA
GARRIDO-LECCA | CECILIA
GARWOOD | MIKYUNG
GATEHOUSE | CATHERINE | A.
GATH | MIRIAM | LUCY
GAUL | MATTHEW | DAVID
GAUTHIER | THOMAS | PATRICE JEAN ARSENE
GEIGER | ADAM | MICHAEL
GEISER | NILS | JULIAN
GEMKE | ANS | H.
GENCE | THOMAS | JOHN PIERRE MARIE
GENSCH | FRANK | THOMAS
GEOR | RAYMOND | J.
GEORGE | GINA | M.
GEORGE | JENNIFER
GERBER | NATHALIE | CARA
GERMAIN | MARJORY
GERRISH | STEPHANIE
GERZANICH | EIKO
GHANEBASIRI | KAMBIZ
GHANWAT | SANDHYA
GHOSH | SUSHMITA
GIBBONS | KAZUYO
GIBSON | JESSIE | NICOLL
GIESEN | HILDEGARD
GIESEN | PAUL
GIFFORD | JOHN | WILLIAM
GILL | BRIAN | J.
GILL | TIMOTHY | WILLIAM
GILL | YVONNE | A.
GILLY | ALEXANDER | EDWARD FRANCOIS
GIOVANNINI GRAZIOLI | LAURA | JEANNE MONIQUE
GIROD | MAGALI | KARINE
GIROLAMI | PATRICK | GERARD
GIUFFRIDA | MARTIN | J.
GIVAN | NANA NINA | ALEXANDROVNA
GLANSBEEK | JOHANNES | HARMANNUS BERNARDUS
GLASS | LINDSAY | CRAWFORD
GLAUSER-NETTLETON | JULIE | MICHELLE
GLOUTNEY | GUYLAINE
GOBINS | MARCIS
GOEK | KEITH | CHER WEI
GOEMAERE | JEAN-MARC
GOGELA | ELISABETH | MARIE
GOH | AH | ANG
GOLD | JULIA | THEA
GOLDMAN | MA'AYAN | TSIPORA
GOLDRING | BELINDA | FLORENCE
GOLDSTEIN-GOFT | DAPHNE
GOMBRICH | CARL | ASOKA
GONCALVES SOARES FRANCO | ANTONIO | MARIA
GONTHIER | GEHA
GONZALES | GEORGE | CARLOS
GOOD | BRYAN | DAMERON
GOODSELL | ANGELA | GAIL
GOOSEY | EMMA | RAE
GOSSELIN | CHRISTINE | MARIE
GOTO | HISAE
GOTO | SUMIO
GOTTGES | MICHAEL
GOTTLIEB | DAVID | ELI
GOTTLIEB | LINDSEY | MICHELE
GOUDGE | CARLA | CATHERINE
GOUDREAU | PAULA | BINNEY
GOULDING | TOBY | JOSEPH GEORGE
GOW | MARK | DAVID
GOYAL | PRADEEP | V.
GOYER | NATHAN | ALAN
GRAF-HURST | SIDNEY | VAUGHN
GRAHAM | GORDON | B.
GRANDE | ELIZABETH
GRANDI | GIANLUCA
GRANHEIM | SARA | MARIE
GRAY | ANNAMIEK
GREEN | ANDREW | CHARLES
GREEN | ISOBEL | HOLLY
GREEN | JESSICA | CELECE
GREENE | JAMES | ALAN
GREER | RINA | CLAIRE
GRIEPSMA | GRACE | E.
GRIGO | BRITTA | ANGELA
GRIMM | GABRIELE | S.
GRINIUS | STEVEN | THOMAS
GRONEMAN | ROBERT | JOHN
GROSLAND | ROBERTA | JAYNE
GROSS | ARYE | MORDECHAI
GROSSMAN | ALAINE | F.
GROVIT | ALEXIS | FARID ISMAIL
GRUENDLER | CHRISTINE
GRUNEWALDER | TIMO | OTTO
GU | JIALIN
GU | MING
GUIDI | JOSEPH
GUILLEMIN | HELENE | M.
GUINEBRETIERE | SANDRA
GUMUSKAYA | IDIL
GUNNING | CHRISTOPHER | PAUL
GUNTHARDT | RAY
GUO | CHENG
GUO | JENNY
GUPTA | MADHULIKA
GUPTA | RAJIV
GURUNATHAN | JAYALAKSHMI
HA | MIN | JA
HAANK | JORI
HADLEY | EMILY | ELENA
HAENFLING | ERHARD
HAGGLUND | DIANE
HAJELA | ATUL | B.
HAJELA | SHIKHA
HAKEMI | GHAZAL
HALL | ELLEN | SUE
HALLUK | CLAUDETTE
HALSEY | CHRISTINA
HALY | BART | S.
HAMEL | JUDY
HAMEL | MICHEL | P.
HAMID | ZAEN | ASAD
HAMMOND | CHRISTOPHER | JOSEPH
HAN | JI | S.
HAN | KEE | JUAN
HAN | MINGXIANG
HANAOKA | TOSHIMASA
HANCOCK | CHRISTOPHE | ROBERT
HANDELSMAN | SIMON | D.
HANNA | KARIN
HANOT | JEAN | R.
HANSEN | DAVID | ERIC
HANTSCH-KOCH | SUSANNE
HARA | YASUHITO
HARADA | MASAKO
HARADA | YOSHIO
HARBINSON | ELEANOR | LISKA
HARDENBERGER | JESSICA | ANNE
HARLACHER | FRANK
HARLAND | JEFFREY
HARNISH | PATRICK | ALAN
HARNISH | SABRINA | LAETITIA
HARRAP | JACK | ETHAN
HARRIS | ELIZABETH
HARRISON | ALEXANDER | W.
HARRISON | HELENA | JOAN
HARTING-LINKE | RENATE | B.
HARTMAN | STIAN | THOMAS
HARTSHORN | JUDITH | ELISABETH
HASAN | RYNEL
HASE | KUNIYASU
HASEGAWA | MEGUMI
HASEGAWA | YOSHIYUKI
HASHIMOTO | MASAHIRO
HASSANI | ROUDABEH
HASSOUNA | ISMAIL | I.
HASSOUNA | NADIAH
HATTORI | MINORU
HAUGEN | TANYA | T.
HAVEMAN | THERESA
HAVEMAN | THERESA
HAVEMANN | MARTIN
HAVERSTOCK | JOHN | PATRICK
HAY | JAMES | M.
HAYDEN | PAUL | TREVOR
HAYERS | PHILLIP | MICHAEL
HAYON | RAYMOND | R.
HAZAN | REUVEN | YAIR
HAZARD | LEAH
HE | KAILEI
HEARD | DEBORAH
HEBB | DIANE | MARIE
HEGDE | SADANANDA
HEINE | LUCAS | OLIVER
HEINKE | THOMAS
HEISEY | ASPEN | FERN
HELLIWELL | BENJAMIN | ALEXANDER
HELLSTADIUS | CECILIA
HELM | CYRIL
HEMMERICH | DAGMAR
HENDERSON | CHRISTOPHER
HENDERSON | HEATHER | A.
HENDERSON | SCOTT | 00
HENDRIKSEN | ANDRE | MOURA
HENG | KANG | YU TERRENCE
HENRY | AMANDA
HENSBY | CHRISTIAN
HEPBURN | CHARLOTTE | MOORE
HEREDIA | MARIA | ISABEL
HERMON-TAYLOR | PETER | MAXWELL
HERNANDEZ-KUCEY | ELENA
HEROLD | MARIANNE
HERRING | KEN | MATTHEW
HERRMANN | SUSANNE
HERSCHDERFER | KATHY | CECILE
HERTERT | BRIGITTE | ABRAMOVICI-
HERTERT | ROLAND
HERTLI | ANDREA
HERTLI | SEBASTIAN
HESS | JULIA | A.
HESS | STEPHANIE
HESS | ZACKARY | MCGRAIL
HESSE | MARC | OLIVER
HETZ | LINDA | C.
HEUPEL | MICHAEL
HEURICH | RAINER
HEWETT | TERRY | LEE
HEYN | MONTE | WAYNE
HIBBERT | SALLY | ELIZABETH
HIBBS | KATHERINE | KAMYRE
HICKS | LEE | ANN
HIGGINKERN | SETH | DAY
HIGHES | GERALDINE | ANGELA
HILLER | GERDA | LUISE
HILTY | STEPHANE | HANS
HIMMELMAN | LAURA | ANN
HIMMELMAN | RYAN | DAVID
HIMPENS | NATHALIE
HINTON | ANTHONY | JOHN
HIOKA | MINAKO
HIRAKAWA | KUMIKO | GRANILLO
HIRATA | SUGURU
HIRTHAMMER | THERESA | ERIKA
HITCHCOCK | ELIZABETH | ANN
HO | CALEB | K.
HO | CHIA HUI
HO | MOOI | F.
HO | PING | SUN JOHN
HO | STEPHANIE
HO | VERNA | GENWAY
HO | WAI | SUM
HODGSON | PHILIP | KENNETH
HODSON | SANDRA | LEE
HOFFART | STEVEN | W.
HOFFMAN | JUDITH | FRANCE
HOFFMANN | ARICK | TOR
HOFMANN-BELL | BIRGIT
HOFSCHNEIDER | MARCO | C.
HOLCOMB | JEFF | RICHARD
HOLLAND | MARY | CATHERINE
HOLLAND | NICHOLAS | J.
HOLLANDER | MARTIN
HOLLEY | DEBRA | L.
HOLLEY | MARK | W.
HOLME | BARBARA | ANNE
HOLMES | PHILIP
HOLMES | SIMON
HOLWERDA | NOAH | BRANDON
HOLWERDA | SASKIA | NADINE
HONG | JUNG | CHIH
HONG | KUN | HENG
HONG | LENG | KEONG
HOO | KARIN
HOOGENBOOM | PETER | JOHN
HOOKER | KIRSTY | V.
HOPCRAFT | PETER | N.
HOPE | CHRISTOPHER | M.
HOPE | JULIE | S.
HOPKINS | MICHAEL | KARLHEINZ
HOPMANN | HENRIK | JENS
HORNG | PETER | CHIH-YUAN
HORNUNG-MOSER | MICHAEL | CHRISTIAN
HORTON | SIMON
HOSKINS | CLIVE | J.
HOSOYA | REIKO
HOTTA | HARUMI
HOTZ | LAURIE
HOU | CHUNNING
HOU | TINGGUI
HOU | ZHONGYU
HOUCK | STEVEN | MICHAEL
HOUSE | SARAH
HOUWEN | NANCY ANN | VANDER
HOWARD | BRENDAN | JOHN
HOWARD-KAEMMERER | MARTHA | LOUISE
HOWE | CHRISTINE | GISELE
HOWSON | KEVIN
HOYER | ALEXANDRE | GEORGES
HOYLE | VICTORIA ANNE | MCCREIGHT
HRYNIOWSKI | ELLEN IRENE | ROBB
HSIAO | HUI | HUA
HSIEH | ANNIE
HSIEH | PEI | LIN
HSIEH | TEV-HUANG
HSU | JEFFREY | TSUO-WU
HU | RENMING
HUANG | GUANGWEI
HUANG | LI | NA CHERN
HUANG | PHOEBE | LING-YEAN
HUANG | QIHAO
HUANG | SIN | CHEN
HUANG | YA | WEN
HUANG | YING | CHIH
HUANG | ZHAN | PENG
HUERZELER | FABIAN | MARC
HUH | KYUNGWON
HUH | MIJUNG
HUH | SUNG
HUIZING | EVERT | J.
HUMBEL | DIETER
HUMPHREY | JASMINE | NICOLE
HUNTING | ROBERT | PAUL
HUTCHINSON | ROY | O.
HUTT | SING | MING
HUTTON | JOANNE | THOMAS
HUYNH | KIM | PHUOC
HYAMS | PAUL
IANNETTA | JEAN | MARIE
IBANEZ | SABRINA | TERESA VIRGINIA
ICELY | PETER
ICHIKAWA | HIROSHI
ICHIKAWA | TAKAKO
IDCZAK-DESCAT | CHRISTIAN | J.
IGAWA | TAKEHIRO
IIZUKA | YUZO
IKEDA | YURIKO
ILTEN | PAUL | FREDERICK
IMAI | MASAKO
IMAI | TADAYUKI
IMAMURA | HISAO
IMAMURA | MIYAKO
IMBACH | PASCALE
IMHOF | LESLEY | MARGARET
IMPERIALE | MARINA | NASTASSJA
INAGAKI | KOTARO
INOUE | MASARU
INTRATOR | ELIZABETH | ROSE
IRANI | ZUBIN | J.
IRELAND | CATHERINE | A.
IRLAM | CAROL
ISAACSON | INEKO | H.
ISAKU | MASAKO
ISAKU | TAKESHI
ISHIGURO | KEN
ISHIHARA | YURI
ISHINO | TETSUYA
ISOGAWA | CHIHIRO
ISOGAWA | MASANORI
ITO | AKIKO
ITO | TAKANOBU
ITO | TAKASHI
IWANAGA | YUJI
IWANAGA | YUKIKO
IWASAKI | YOSHIHISA
IWASAKI | YURIKO
JACKAMAN | PAUL | A.
JACKLING | TIMOTHY | DAVID
JACKSON | ADINE
JACOB | MAMMEN
JACOBS | MARCIA | LYNN
JADD | JEROME | LAWRENCE
JAEGER | ERIK
JAGAN | SONITA | S.
JAGANNATHAN | MAHESH |
JAIN | SANJAY
JAMES | CHRISTOPHER | BRIAN
JAMES | GINA | RENEE
JAMES | KATELYN | ALEXANDRA
JAMILA-WUERTH | FRIEDEMANN | J.
JANSEN | RICHARD | E.
JANSEN | TERRENCE | JOSEPH
JANSEN | THOMAS | W.
JARSKY | MATTHEW | MERTON
JAYARAMAN | GAYATHRI
JEFFS | LYNN | MARIE
JEFRI | FARIS | MOHAMMAD
JENKINS | ALAN | P.
JENNINGS | MIKAKO
JEONG | BAE | HOON
JEONG | CHOONG | KUN
JERRY | DOUGLAS | JOHN DONALD
JIA | HUI
JIANG | HONG
JIANG | JIANDE
JIN | CHARLES
JIN | JING
JIN | LIJIE
JOHLER | CHRISTINA | MAUREEN
JOHNA | SAMY
JOHNSON | AKEMI | SATO
JOHNSON | ANNE | ELIZABETH
JOHNSON | CHRISTINE | MARY
JOHNSON | JAY | A.
JOHNSON | RETNO | H.
JOHNSON | STEPHANIE | JANE
JOHNSON DEEGAN | MICHELLE | KATHLEEN
JOHNSTON | DOUGLAS | IAN
JOHNSTON | NICHOLAS | JAMES
JOLIVET | CLAIRE | ANNE
JONES | DON | LEWIS
JONES | ZACHARY | ROBERT
JORDAN | BYRON | DALE
JORDAN | JOSEPH
JORDAN | KATHERINE | ELAINE
JORDAN | NANDIPHA | ESTHER
JORDAN | SUSAN | MARGARET
JOSEPH | JOSEPH | MONSOUR
JOSHIPURA | NAMRATA
JOYCE | JOHANNA
JUERGENS | ROBERT | WILLIAN
JULEN ALTHAUS | IRMGARD
JUNEANTO | JUWITA | KUSUMAWATY
JUNG | HSIAO | MEI
JUNG | NIKOLAUS | JOACHIM
JUNOD | MARC
KABBANI | MAHER
KADATZ | SCOTT | HENRY CARROLL
KAEGI | MANUEL
KAELIN | CAROLINA | NADJA
KAHANE | ADAM | M.
KAHANE | DOROTHY | R.
KAHN | MICHELE | MARGUERITE
KALE | PRAKASH | S.
KALE | SANDHYA | P.
KAM | BRANDON | JASON
KAMIYA | NOBUAKI
KAMMERER | MARK | ANDREW
KAMMERMEIER | ELISABETH | U.
KAMMERMEIER | KLAUS | G.
KANDA | JUNKO
KANEKO | KATSUMI
KANEKO | REIKO
KANG | SANGWOOK
KANG | SUH YOUNG
KANG | YI
KANII | KENJI
KANOST | LAUREL | KATRINA
KAO | JOHNNY | WEI-CHAO
KAPPAGANTULA | MYTHRI
KAPSIMALI | ALEXANDRA | MAURICE
KARADIMAS | PETRA
KARCHER | IAN | D.
KAREENHALLI | SRINIVAS | V.
KARIM | AHMAREEN
KARIYA | SHINGO
KARNEI-REM | REUBEN | MOSHE
KARSCHIN | PENNY | BARBARA VIKTORIA
KASDORF | HILDA
KATAYAMA | DAISUKE
KATO | HARUMI
KATZ | ELIAKIM
KATZ | KEVIN | MICHAEL
KAUFMAN | MAIKE | JENNIFER
KAVULAK | JOHN | C.
KAWAI | HIDEKI
KAWAMURA | TAKAHIRO
KAWASAKI | CHIE
KAY | MICHAEL | BENJAMIN
KA-YAN KWAN | ASHLEY | ELIZABETH
KAYE | PATRICIA | ELIZABETH
KAYE | ROBERT | ANDREW
KE | PI-HUNG
KECK | HARALD
KEES | MICHAEL | NATHANIEL
KEESS | ALAN | HOWATT SCOTT
KELLER | ROLAND | MANFRED
KELLEY | DOUGLAS | FORSYTHE
KELLEY | KEVIN | LEWIS
KELLIE | SANDRA | H.
KELLIHER | SARAH | JANE
KELSON | ILAN
KEMMOCHI | KATSUHIKO
KEMMSIES | THOMAS | FRANKLIN
KENNEDY | DAVID | EDWARD
KENNEDY | GERDA | H.
KENTOPP | KORRYN | ERIC
KERBS | HEIKE
KERN | MICHAEL
KERR | BARBARA | MARION
KERR | MICHAEL | WILLIAM GRAHAM
KESHAVARZ | HAMID
KESLAKE | RUTH | B.
KETTLER | DOLORES | HILDEGARD
KEZUKA | KIMIKO
KEZUKA | TOSHIHIKO
KHAN | AMY | JO
KHANNA | GEETA
KHONG | MICHELLE | B.
KHOSLA | RAEWYN | MAREE
KIDD | MELVIN | J.
KIDOKOO | IWAO
KIKUCHI | KAZUYUKI
KIKUCHI | KEIKO
KILLIN | ANDREW | JAMES
KILLMANN | KAY
KILVINGTON | CHRISTOPHER | J.
KIM | BOK | JA
KIM | BONGGI
KIM | CHUNG | HOON
KIM | DEIRDRE | MARIE
KIM | DONGOOK
KIM | ERIC
KIM | EUNICE
KIM | HACHUL
KIM | HENRY | SUNGSU
KIM | HWA-SUK | C.
KIM | HYUN | SOO
KIM | HYUN | SOO
KIM | HYUNSOO
KIM | JEONG | MEE
KIM | JIN
KIM | JOSHUA | H.
KIM | JUN | BEOM
KIM | KWANG-JEA
KIM | MI | SON
KIM | MIN
KIM | SUNG | HEE
KIM | WON
KIM | YOUNGDAE
KIM PARK | YOUNG | AH
KIMPEL | DIRK | ROLF
KIMPTON | JAMES | ROGER FITZPATRICK
KIMURA | HARUKA
KIMURA | MASATO
KIMURA | MEGUMI
KIMURA | YURINA
KINGHAM | NICOLAS | WYATT
KINNE | ROLF
KINOSHITA | MASAHIRO
KIRBY | ANNETTE | P.
KIRBY | COLEEN | LOUISE
KIRDAR | RENA
KIRKHAM | PATRICIA | A.
KISS | GABRIELE
KITAGAWA | MASAHISA
KITAGAWA | YOKO
KIYANDA | CHARLES | BASENGA
KLEE | SIMONE
KLEIBERGEN | FRANK
KLEIN | KEVIN | V.
KLINEFELTER | VICTOR | ALLEN
KLINGER | CLAUDIA
KLOHR | CYNTHIA | SUE
KLUTH | ELAINE | ISHA
KNAUR | MATHIAS | THOMAS
KNELL | JUTTA | MARIA
KNIGHT | KATHRYN
KNOELL | MICHAEL | RALPH
KNUDSEN | ELLINA | MONET
KNUTTILA | KIM | R.
KO | COLIN
KOBAYASHI | MAYUMI
KOBAYASHI | MINORU
KOBAYASHI | TORU
KOBELT | ADRIAN
KOBRIN | ESTER
KOCH | MICHAEL | H.
KOCIA | CATHERINE
KOECHLIN | TILL | JASPER NICOLAS
KOEHL | JOERG
KOELEWYN | YAACOV | ISRAEL
KOH | ANDRE | JUN QI
KOH | TOWSIAN
KOHAMA | MOE
KOIVUMAKI | LIISA | HANNELE
KOJIMA | YUKIO
KOKKIDIS | ALEXANDROS | JOHN
KOLMAN | LOUIS | ROBERT
KOLTIN | DROR
KONDRACKI | NICOLAS | OSTOJA
KONHEISER | CATHERINE
KONHEISER | HARALD
KONIETZKO | JULIUS
KONNO | ANDREA | K.
KOOP | WALTER | J.
KORDETZKY | JENS
KORNELSEN | JULENE | NICOLE
KORNITZER | DAFNA
KORN-NESPOR | ANNE | RUTH
KOSARIC | AMIR
KOUMETZ | GERARD
KOYAMA | NORIKO
KOYAMA | TORU
KRAKOWER | PEPII
KRAMER | THOMAS
KRAPF | JASMINE | ANN
KREMPA | GERALDINE
KROMBHOLZ | ANJA
KRONAUER | CHRISTINE
KU | JUNG | HEE
KU SINCLAIR | CHING | TAK NOEL
KUANG | HENG
KUDOSE | ITARU
KUEHNELT | MANFRED | F.
KUGE | TAKASHI
KUHARA | YUMIKO
KUHNKE | KRISTINA | LOUISE
KUIPERS | PATRICIA | JOY
KUMAGAI | MAKI
KUNNANATT | JAMES | THOMAS
KUNZ | GREGORY | STEFAN
KUO | CHUN | JAN
KUO | KUO | HSIEN
KUO | TAI-HAUR
KUO | YA-PEI
KUROKWA | TORU
KUROO | KUMIKO
KUROO | MAKOTO
KUSCH | MARTIN | G.
KUSHNER | KYLE | WILLIAM
KWAK | YOUNGMIN
KWEE | ALLISON | MEI-AI
KWONG | CHI YUEN | RAYMOND
LA PIETRA | NICOLAS
LABEJOF | PIERRE
LACHINE | VLADIMIR
LACHMAN | SWEENEY
LACOMBE | CARLOS | OCTAVIO
LAI | CHRISTOPHER | JUNJIEN
LAI | CHUNG | FAT
LAI | GLORIA | SUN MING
LAI | HO
LAI | LAURA
LAIRD | DIANNE | E.
LAIRD | RUTH | I.
LALONDE | DAVID | A.
LAM | ANTHONY | TZE CHEUNG
LAM | MEI | LAN
LAM | SZE | MAN VIVIAN
LAM | TAT | CHI BRIAN
LAMAY | VALERIE | ELISE
LAMBA | GURVINDER
LAMBA | SARABJEET
LAMBERT | TYSON | JAY
LAMM | MICHAEL
LAMOTHE | FRANCINE
LAN | KAE-YUAN | DAVID
LAN | SHAN
LANE | GEOFFREY | JAMES
LANGER | ADRIANA | KAREN
LANGLOIS | ELLIS
LANNE-MIRRLEES | PATRICK FRANCIS | ALEXANDER STUART DE LA
LAO | BOBBY | SALIM
LAPIDUS | DIANE | CAROL
LATEGAN | CHRISTOPHER | F.
LATEGAN | PAUL | C.
LAU | CHERYL | DANIELLE
LAU | YUK | SHAN
LAUER | SONJA
LAUGHERY | LAWRENCE | GREGORY
LAUGHERY | VINCENT | OLIVIER
LAUGHLIN | YOKO | Y.
LAUNAY | BENOIT
LAURENS | CHARLOTTE | MARIE ZOE
LAURENT | NICOLAS | LEON
LAVALLEE | DOMINIQUE | PHILIPPE
LAVARELLO | ELISABETTA
LAW | PUI | YING VELMA
LAWRENCE | JOHN | DENNIS
LAWRENCE | MELANIE
LAWSON | HELEN | A.
LAWSON | KATHERINE | BELINDA
LAWSON | MURRAY | J.
LAWSON | ROY | DEAN
LAXTON | JEFFREY | ARNOLD
LE GRAND DES CLOIZEAUX | FRANCOIS | MARIE
LEAKOS | THOMAS | JAMES
LECOMTE | CHRISTOPHE
LEE | ANDREA | H.
LEE | ANGELA | WAI KAY
LEE | ANNIE | CHANG
LEE | BRIAN | H.
LEE | CHENG | HAO
LEE | CHENG | PING
LEE | CHENG-NING
LEE | CHIA YIN | DIANA
LEE | DONGWHAN
LEE | GI | SUE
LEE | HANJOO
LEE | JACK | LAN
LEE | JANGWOOK
LEE | JEONGAH
LEE | KEE | SIG
LEE | LESLIE | PIK SUEN HUNG
LEE | LINDA
LEE | LINDA
LEE | LINJIE
LEE | LYDIA
LEE | MARIA TERESITA | D.
LEE | MIN | YOUNG
LEE | NERISSA | OI LUM
LEE | OI | YEE
LEE | OWEN | Y.
LEE | PAN-CHI
LEE | ROBIN
LEE | SEOKHEE
LEE | SEUNG | YOUN
LEE | SOON | SUNG
LEE | TAE | KWON
LEE | TINA | PAI-TING
LEE | WON | JIN
LEE | YOON
LEE | YUNMEE
LEE0 LEE | JUN | YOUNG
LEERENTVELD | RUDOLF | A.
LEFEBVRE | JOSEE | MARY
LEGG | JACQUELINE | JON
LEGG | MICHAEL | JAMES
LEHTINEN | AMANDA | MARIE
LEIGH | RENA | DELAINE
LEITCH | MAY | ELIZABETH
LEKAS | FOTIS
LEMAK | JOZEF | J.
LEMAK | SUZANNE | HELENE
LEMARIE | GHISLAIN | RENE EMILE JEAN MARIE
LEMARIE | NATHALIE
LEMMO | NICOLA
LENNOX | BRIAN | JOSEPH
LEO | ANTONIO
LEPATSKI | CATHERINE
LEPRIEUR | NANCY | HO
LESTER | NINA | CATHERINE
LETHU | CONSTANCE | REINE MARIE
LEUNG | REBECCA | CHENG-HUI
LEVERSHA | SIMON | D.
LEVI | GEORGE
LEVITT | ADAM
LEVITT | CHERYL
LEWIS | EMMA | ISABEL
LEWIS | JEREMY | BROWNING
LI | HAIYANG
LI | HAN | MIN
LI | JIAN
LI | JINJIN
LI | KIM | PANG
LI | LEI
LI | LIANJIANG
LI | SABRINA
LI | XIONG
LI | XUE | YUAN
LI | YINGHAO
LIAO | RIKO | N.
LIAW | HUI | WEN
LIE | SEN | NEN
LIEBERT | DOMINIC | SEBASTIAN
LIEBERT | MICHAEL | PATRICK
LIE-NIELSEN | FREDRIK
LIETZE | VERENA-ULRIKE
LIM | BEE | Y.
LIM | BEE BEE
LIM | DORCAS | QIAN-YI
LIM | HAE | K.
LIM | J
LIM | J
LIM | KOH | WEI
LIM | SIN | WEI
LIM | WOO | S.
LIM CHUASON | SHANNON | TRACI
LIM TAN | KRISTEN | KYLA
LIMBERT | RACHMANIEAR | S.
LIN | CHING-HUEI
LIN | CHUNG | L.
LIN | FRANK
LIN | KATHERINE
LIN | MICHAEL
LIN | SAMANTHA | YICHUN
LIN | SHERRY | FANGLING
LIN | SHYR-YI
LINDA | LOMA
LINDER | DANIEL | J.
LINDER | SILVIA | M.
LINDGREN | KERSTIN
LINDSAY | ELIZABETH | ANN
LINDSTROM | ADAM | ERIK
LING LO | YOLANDA | YUAN
LINK | CHRISTINE | MARIE
LINKE | BERNHARD
LIPMAN | ROSWITHA
LIPSON | PAMELA | SUSAN
LITTLE | DELFINA | F.
LITTLE | SASKIA | R.
LITTLE | SYDNEY | DAVIS
LITTLE | TIMOTHY | S.
LIU | AN-CHE | ANDY
LIU | CHANG-CHU
LIU | GUANGTAO
LIU | LEI
LIU | MING-HSING
LIU | RONG
LIU | SHIAO-WEN
LIU | XINGSHENG
LIU | YING HUEI
LIVIUS | RONALD
LO | TAYLOR | KOON KIU
LOCK | JUNN-YEU | CONSUNJI
LOCKETT | WILLIAM | ALAN MORRIS
LOEFFLER | MAGDALENA
LOELIGER | FLORENCE | CATHERINE
LOESHE | ANN | ISABELLA
LOETTGEN | FABIO
LOH | BOON | KEOW
LOH | MARY | SHEUCHEUN
LONG | CAROLYN | MARJORIE
LOO | JON | PIERRE
LORANG | LYNNE | PATRICE
LORENZ | HELEN | JOANNE
LOSEV | DOLLY
LOTZ | BENNO
LOUGHLIN | EDWARD
LOVE | CHRISTINA
LOVE | WALTER | WILLIAM
LOVETT | SHARON | LOIS
LOW | JACQUELINE | EN-QI
LOW | RUTH | RAMAWATI
LOWELL | EDMUND | JOHN
LU | ALBERT | P.
LU | GRACE
LUDWIG | MINKA
LUENEBURGER | CHRISTOPH
LUI | WEN-JIE | BENJAMIN
LUKEN | MARK | ANDREW
LUTENBACHER | JOSHUA | SHINJI
LUTZ | SHIRLEY | ANN
LUTZ | SHIRLEY | A.
LUU | HUYEN | BOI
LUX | ANDREW | CHRISTOPHER
LYBY | KNUT
LYDON | EMMET
LYMAN | CHIKAKO | K.
LYONS | BERYL | CLAIRE
LYONS | BETHAN
LYONS | CHRISTOPHER | J.
LYONS | HELEN | JANE
LYONS | MARTYN
MA | ZHIYIN
MAC DONALD | RHONA | M.
MACALISTER | GRACE | V.
MACARTHUR | JANE | LOUISE
MACAUX-PERELMAN | CHARLOTTE
MACDONALD | BRUCE | ALLAN
MACDONALD | COLIN | FREDERICK
MACDONALD | JANE | NEWTON
MACDONALD | JENNIFER | ELLEN
MACDONALD | JOHN | JOSEPH
MACDONALD | SHEILA | T.
MACDONALD | SIMON | A.
MACEDO | ELISABETH | RIBEIRO
MACEDO | VALDIR
MACFARLAND JR | HAROLD | CHARLES
MACGREGOR | RODERICK
MACISAAC | JULIA
MACKAY-SMITH | ALEXANDER
MACKENZIE | MAITLAND
MACKINNON | REESA | LYNNE
MACLEOD | R. | MALCOLM
MADDEN | PAUL | M.
MADEDDU | DANIEL
MADER | JULIA | RAHEL
MADU | VIOLET
MAEK-GERRAD | MICHAEL
MAGER | CAROLINE | ANDREA
MAGLIONE | PABLO | A.
MAGNAN | ANTOINE | MARTIN
MAGNUSSEN | VICTORIA | ALLISON
MAGUIRE | HENRY | P.
MAHONEY | DENIS | KIRK
MAIWEG NARCISO | ANIK | ALEXANDRA
MAK | BETTY | SUEK-YUK
MAKENZIE | BETTIE | RUTH
MALDONADO | DANIEL
MALE | WENDY
MALIK | BABAR | ABBAS
MALLICK | DHRUV
MALTBY | GEORGINA
MANDAPATI | SRIDHAR
MANGALGIRI | VICKRAM
MANNS | DEREK | MICHAEL
MANRIQUE | SANDRA
MANSE | FREDRIK | U.
MANSE | MARIA
MANSUR | DAVID | LLOYD
MANSUR | JOANNE | LOIS
MANTLE | PAUL
MAPP | MARGARET ANNE | PAOLINI
MARANGONI | ANA | MARIA ROSA
MARANGONI | LENER | LUIZ
MARAVEI | DANIEL | V.
MARGARIA | ROBERTO | AMERIGO
MARIES | SCOTT | LAURENCE
MARONDEL | IVONNE
MAROUF | NOUR | MOHAMMED
MARSHALL | KATE | E.
MARSICO | JOSEPH | FRANCIS
MARTEAU | MARYCLARE | WHITE
MARTEL | MARIE | THERESE DIANE
MARTIN | CHRISTOPHER | J.
MARTINI | REGINE
MARTONO | FRANS
MARTZ | JULIE | G.
MARX | BENJAMIN | ROBERT
MASAKI | HIROSHI
MASCHIO | BENEDETTA | DOROTHY
MASE | HIROKO
MASE | JITSUO
MASON | DAVID | FREDERICK
MASSEY | JENNIFER | CLAIRE
MASTROPRIMIANO | DAMIEN | M.
MASUDA | KAORU
MASUDA | YOSHIKAZU
MATHUR | RAKHI
MATHUR | VIVEK
MATOUK IRIONDO | MARIA
MATRONE | PEGGY | A.
MATSUI | AKIRA
MATSUI | KAYOKO
MATSUMURA | ASUKA
MATSUSHIMA | MASUMI
MATSUSHIMA | MIEKO
MATSUURA | TOSHIAKI
MATSUZAKI | YOKO
MATTIAZZO | GEMMA | FRANCESCA
MAUBOIS | MARIE | ANNE
MAURICE | SONYA | C.
MAXFIELD | MAO | ELISA
MAXWELL | PATRICK | HO
MAY | PHILIP | LAWRENCE
MAZER | SAMANTHA | BETH
MAZZUCATO | CHRYSTELLE
MC LIN | JON | BLYTHE
MC MECKAN | HILARY | RUTH
MCADAM | AILEEN | T.
MCBURNEY | JOSEPH | ELLIOT
MCCABE | BRIAN
MCCAUGHEY | HANNAH | RUTH
MCCLURE | VICKI | KATHRYN
MCCOLLUM | CRAIG | IAN
MCCRACKEN | NANCY | ANN
MCCUTCHEON | LAURA | L.
MCCUTCHEON | MARK | J.
MCDONALD | PAMELA | JOYCE
MCDONALD | SUSAN | D.
MCDONALD-GIBSON | JONATHAN | HENRY
MCEVILLY | SEAN | JUNICHI
MCGRATH | DEBORAH | ANNE
MCGRAVIE-WRIGHT | ANNE | VERONICA
MCHUGH | MARIA | CATHERINE
MCINTOSH | RYOKO
MCINTOSH | STUART | J.
MCKAY | MELANIA | FRANCIS SHED
MCKENNA | JOSEPH | TERENCE
MCKERCHER | JOHN | G.
MCKINNON | SARAH | MORGAN
MCKOY | MADISON | JEFFERSON
MCLAREN | WHITNEY | HAMMOND
MCNAMER | MOEKO | RENEE
MCNEIL | ELIZABETH | ANN HULME
MCSHAN | DENISE
MEDDING | JONATHAN | AARON
MEDINA | ERIKA | SANTI
MEGNIN | CHARLES | H.
MEHTA | CHHAYA | P.
MEHTA | MITSU | N.
MEIER | MARIE | C.
MEIER | SUSAN | DEBORAH
MEIER | YANIK
MELLEMSETER | LARS
MELNIK | CATHERINE | MARIE CECILE
MELOCIK | JUDITH | KATE
MELTON | STEVEN | CHRISTOPHER
MENDEL | MAX
MENDEZ BUENO | CARLOS | B.
MENESES | J LOUIE
MERCADIER | VINCENT
MERCHEL | EWA | ANNA
MERCURY | JAMES | ARISTOTLE
MEREU | AKIKO | CHIBA
MERIGAY | ALEXANDRE
MERKX | DAVID
MERO | ALICE | EUGENIE MARIE
MERO | BAPTISTE | ANDRE JEAN MARIE
MERO | FLORENCE | MARIE
MERO | FRANCOIS | EUGENE GILBERT
MERO | JULES | CLEMENT GABRIEL MARIE
MERWOOD-SALISBURY | JOANNA | R.
MESZAROS | STEVE
MEYR | INGO
MICHAELIDIS | VENETIA
MILAZZO | ANTONETTE | DELORES
MILLER | COURTNEY | ELIZABETH
MILLER | SUSANNE | T.
MILLION | GREGORY | RONALD
MILTON | CINDY | ANN
MILTON | JOSHUA | DOUGLAS
MILTON | ZACHARY | ALEXANDER
MINARD | JEAN LUC | ANDRE MARCEL
MING-DE OEI | CHRISTIAN | ELLIOTT
MINNAARD | MARIJKE | CORNELIA
MINORA | LAURA
MINTO | RACHAEL | MAN YAN
MIRON | BRURIA
MIROW | ISABELLE | A.
MIROW | LEA
MITAL | SEEMA
MITCHELL | LISA | JOY
MITTAL | ANUPAM
MIURA | MAKOTO
MIURA | TOSHIRO
MIZUMO | SAYA | MARIA LUISA
MOCHIDA | KAZUHIKO
MOCHIZUKI | RIYO
MOCHIZUKI | YOSHIHIKO
MODIN | PER | NICLAS
MOHADJERIN | MAHIN
MOHAMED | MOHAMED | ABDULLAHI
MOISAN | ERIC | HAZZARD
MOISAN | KATHLEEN | ANN
MOISAN | MARC | PIERRE
MOKAY-RINKE | SHILOE | MARIE
MOLIJN-HUIZING | JOYCE | I.
MOLL | MELANIE
MOLLER | SHARRU | ELESSAR
MONDLAK | MOISES
MONETHER | SANDRA
MONNERVILLE | JEAN-CHRISTOPHE | A. C.
MONTEJO | NICOLAS | M.
MONTEN | LINA | M.
MONTGOMERY | ALEXANDER | R.
MOORE | ALEXANDER | JEFFREY
MOORE-GILLON | MARK | J.
MORALES | VIOLETA
MORAND | GUY
MORBIANI | ALFRED | ANTHONY
MOREA | LUCAS
MORENCY | MARY | MOREHEAD
MORETON | JANE | S.
MORETON | PAUL | A.
MORGAN | CAROLINE | F.
MORGAN | LESLEY | J.
MORGAN | LYDIA | J.
MORGAN | ROGER | E.
MORGER | PHILIP | TOUSSAINT
MORI | MIYUKI
MORI | TOMOHISA
MORIMOTO | MARIKO
MORLEY | SIMON | ANTHONY
MORONI | ANTONELLA
MORRIS | ERICA | R.
MORRIS | PHILLIP | H.
MORTON | BETTY
MORTON | GARY | GORDON
MORTON | MASAKO | KONO
MOSELEY | BRIAN | ROGER
MOSHER | JUDITH
MOSHER | PAULINE | BARBARA
MUERL | CLAUDIA
MUIR | KENNETH | RONALD
MULYANTO | MONICA | LYNN
MUNDT-SMEJDA | TAMARA
MUNIAN | ALOMA
MUNIAN | FRANKLIN | O.
MUNNS | JESSICA
MUNZBERG | MIRIAM
MURAYAMA | YUICHI
MURPHY | ISABEL
MURPHY | MICHAEL
MURPHY | MICHEAL | J.
MURRAY | OISIN | F.
MURTHY MURPHY | SHYAMALA
MUSALLAM | SARAH | INRAHIM
MUSHIN | DAVID | A.
MYATT | JASON | F.
MYUNG | KEVIN
NAAIJKENS | GERARDUS | M.
NABHA | UDITA | M.
NAGAI | MASARU
NAGAR | SUMEET
NAGARAJAN | SHUBHA
NAGASHIMA | TAMIKO
NAGASHIMA | TATSURU
NAGLER | PATRICIA
NAHHAS | ANTOINE | D.
NAKAI | AKIRA
NAKAI | TAKAYUKI
NAKAMURA | HIKARU | KO.
NAKAMURA | JUNKO
NAKAYAMA | HITOMI
NAKAZAWA | KOUKI | SPENCER
NAKAZAWA | RIEKO
NAMMOUR | BECHARA
NAMMOUR | HENRIETTA
NANNEY | JEFFREY | DELANEY
NASHAT | BIDJAN | T.
NATALE | LOUIS | FREDERICK
NATALINI | ANGELO
NATARAJAN | SHYAMSUNDAR
NATRAJ | LUCAS
NAUGHTON-SMITH | ALEXANDER | REED
NAVKA | TATIANA
NEDJAR | LYDIA-DJOUHRA
NEDJAR | REDA
NEHME | ANTONIO | ABDALLAH
NEILSON | CLARE | FRANCES
NEILSON | STEPHAN
NEMET | JEHUDA | ARIE
NERLICH | RALF
NESTOR | SARA | E.
NEW | KATHLEEN | MARIE
NEWBATT | FRANCIS | PETER
NEWMAN | ANNE | MARIE
NEWMAN | JEFFREY | FRANKLIN
NEWMAN | MARC | E.
NEWMAN | MELINDA | MAY
NEYSADURAI | ANURA
NG | ANNA
NG | SAI-YING
NG | WILLIAM | KA KIN
NGO | JUSTIN
NGO | PHILLIP
NGUYEN-HUYNH | TO | HOA
NGUYEN-PHUONG | DIEU-ANH
NGUYEN-PHUONG | LAM
NICHOLS | BARBARA | ANN
NICOLAUS | TIANA
NICOLAUS | TIMOTHY
NICOLIN | MAGNUS
NICOLIN | SOFIE | E.
NIELSEN | MORTEN | O.
NIESSING | CLAUDIA
NIGAM | VINEETI
NIGGLI-ANLIKER | SUSAN | BARBARA
NILSEN | GUNNAR | K.
NINOMIYA | HIROSHI
NISHIJIMA | ICHIKO
NIWA | NORIO
NIWA | TAKIKO
NOGUCHI | SEIJI
NOMIYAMA | AKIRA
NOMURA | YASUYO
NOMURA | YOKO | Y.
NORLUND | HAROLD | S.
NORLUND | MERRILL | S.
NORREY-DROUIN | DAWN | E.
NORRIS | DONALD | J.
NORRIS | GENEVIEVE
NORRIS | GRAHAM | CHARLES
NOSIADEK | RICO | ALEXANDER
NOUMAN | ALEENA
NOVELLA | CARLOS | MAURICIO
NOWAK | SEAN | WILLIAM
NUGENT | BARBARA | J.
OBANDO | IVAN | D.
OBATA | NORIKO
O'BEIRNE-RANELAGH | ELIZABETH | GRENVILLE
O'BRIEN | DENIS
O'BRIEN | MARY
OBRIST | JURG
OBYRNE | SHARON | ROSE
ODDOUX | LOUISE | MARGAUX-JADE
ODELSTIERNA | CHRISTINA | MAGNUSSON
ODOK | SINAN | CEM
OGASA | MARI
OGINO | CHIEKO
OGISHIMA | HIROFUMI
OGISHIMA | YOSHIMI
OH | SOOK | JA
OHARA | KIMIE
OHIKI | TAKAO
OHLMANN | SONJA | RENEE
OISHI | KENTARO | CHRISTOPHER
OKABE | TAKASHI
OKADA | SUMIKO
OKADA | TOKUE
OKADA | TOTOHIKO
OKAMURA | TAKASHI
OKAZAKI | HIROAKI
OKAZAKI | YOSHIMI
OKI | AKIHISA
OKI | FUMIKO
OLGUN | ERDEM
OLSEN | ASTRI | KATRINE
OLSON | CHRISTOPHER | BROOKS
OLSON | DR. CORLISS | P.
OMAR | LIDA
OMORI | AKIKO
OMURA | RUKA
ONG | AIK | SENG
ONG | FREDERICK | ENG GIAP
ONG | ISSEY | TIEN-YUE
ONG | SIOW | LING
ONGKOWIJOYO | RONNY
ONISHI | HARUKA | EMILY
ONO | HIROYOSHI
ONO | KUMIKO
ONO | MIEKO
ONO | TATSUO
ONO | YOHEI | THOMAS
OR | KUEN-FUNG
ORKIN | ANDREW
OSBORNE | GWENNAEL | RUBY
O'SHAUGHNESSY | GAEL | TARA
OSTLER | KATHERINE | ELIZABETH
O'SULLIVAN | MARY | A.
OTANI | RUMIKO
OTEVREL OTEVERAL | GABRIEL
OTOSHI | AKHIRA
OTSUKA | AKIRA
OU | YU | XIAN
OVERHELT | LOUIS | RIKU
OXLEY | JOHN | HOWARD
OYAMA | TOSHISISA
OYEKANMI | OLULOPEYE | PETER
OZA | ASHOKAKUMAR
OZA | NIRMALA
OZA | SACHIN
PAGAN | JENNIFER | HENNY
PAI | JAYANT | S.
PAJKIC | VLADIMIR
PAKOS | MICHAL
PALMER | GERDA
PALMIERI | DANIELE
PANDYA | AMBRISH | R.
PANDYA | KIRTIDA
PANG | MINRAY
PARE | PATRICE
PARIKH | NUPUR
PARK | MARTIN
PARK | MI | JOO
PARK | SE YEON
PARK | SUNG | HYON
PARK | WONSUK | BRIAN
PARKER | KATHERINE | ELIZABETH
PARKER-KINSEY | JULIANNE | BEATRICE
PARRY | JAMES | A.
PARSONS | RUTH | L.
PARTAN | HEESUK
PASSEY | RYAN | S.
PATENAUDE | JEAN-MARC
PATRIDGE PARTRIDGE | MYLES | A.
PATTISON | PETER | L.
PAULI | ROBERT | MICHAEL
PAULL | CLAIRE | NICOLE
PAUNICA | DANIEL
PEARCE | ROBERT | JOHN
PEARSON | RYAN | LOFTUS
PECK | ANDREW | EDWARD
PECORARI | DIANE | ELISABETH
PEDDI | MANJUSHA
PEI KAO | CHRISTINA | CHAI-HUI
PELLER | JOSEPH | JOHN
PELOU | FRANCOIS | LOUIS
PENNELL | CORLIENNE | ADELLE
PERELMAN | MARC
PERERA | MADISON | TATIANA
PERNE | EDWIN
PERNE | JACOBA | ALEIDA
PERRY-JOHNSON | GIANNINA | H.
PESKI | MARCIN
PETER | JON | RAYMOND
PETER | MARCO | DANIEL
PETERS | DOROTHY | LOUISE
PETERS | SAYURI
PETROV | YURIY
PEUKERT | UWE
PFAHL | BETTINA | U.
PFAHL | ULRICH | J.
PFEIFFER | HEIKE | S.
PFITZNER | GEORGE | JANIS
PHILLIPS | HYEON | HUI
PHILP | ROBERT | BRUCE
PIASENTE | MARIO
PIC | EMMANUEL
PICARD | LAUREEN | ISABELLE
PICKENS | GEOFFREY | EDMUND
PIETRO | MAURIANNE | AXELLE
PINE | KATHLEEN | A.
PINNIGER | BRENDON | JON
PINTO | THELMA | M.
PIROLO | MARIA | LUCILA
PIROTTA | DANIEL
PLANT | JANET | LEE
PLATTNER | ANDREAS
PLUMMER | PAUL
PODUCH | CAROL | CASSELMAN
POELS | EDUARD | K.
POGODA | PENINA
POH | KENDRA | NINA
POLEN | CHRISTOPHER | STANLEY
POLEN | SUZANNA | RUBY
POLIVKA MULLER | DENISE | LILI
POON | CHRISTOPHER
POON | KWOK | HO PHILLIP
POPOV-DIHOVICNI | SIMONIDA
PORTE | FERNANDO
PORTELA | MIREN | EDURNE
PORTEN | AVRUM | DAVID
PORTER | LISA | YVONNE
PORTER | MARIAN
POZZI | ANDREAS | FEDERICO
PRAKASH | SUJATA
PRAKASH | VISHWA
PRATT | JANEL | WIRE
PREKA | MARIA
PRENTICE | CAROLYN | A.
PU | JIMMY
PUROHIT | VANI | VIJAYEENDRA
PUYPE | PETER
QI | MIN
QIAN | ZHENYU
QUIGLEY | JAMES | ALEXANDER
QUINN | CANDICE | A.
QUIRING | VIOLET
RAADSMA | JOHANNES | SCHELTE
RADERMACHER | CHRISTINE | I.
RAE-SMITH | JOHN | B.
RAFFEL | IAN | LESLIE
RAFFELLINI | BARBARA
RAFFETTO | PATRICIA | M.
RAHDER | BARBARA
RAIMONDI | PAOLO
RAJAN | RAMKISHEN | S.
RAJAPAKSA | NANDASENA | GOTABAYA
RAJU | BRENDA | LEE
RAKESTRAW | MARIKEN | VIRGINIA
RALLS | RENATE
RAMAKRISHNAN | SRIVIDYA
RAMATI | DVORA | LOW
RAMONAT | CHRISTA | JOAN
RAMOS CHRISTIANSEN | SABRINA | ISABEL
RAMSER | JENNIFER | CAROLE
RAMSEYER | ANDRE | DANIEL
RANA | RUMA
RANA | SATYA | P.
RANDALL | RITA | L.
RANGER | JULIE
RAPOLD | SANDRA | GABRIELA
RAPP | DONNA | ELIZABETH
RASMUSSEN | MORGAN | EMANUEL
RASMUSSEN | NICOLAS | NOEL
RASMUSSEN | STEVEN | LUND
RATTLEY | KOUNNY | KAMIKO
RAUDONAT-ARNDT | UTE
RAWBONE | MICHELLE
RAYNER | MICHAEL | ANTONY
RAZ | URI
READY | JANE | E.
READY | ROBERT | J.
REDDY | HIROKO | E.
REDMAN | SARAH | ELIZABETH
REED | JOEL | ARTHUR
REED | KAREN | LEE
REGAN | THOMAS | DURKIN
REICHERT | JANINE | SANDRA
REICHERT | TIFFANY | MCHELLE
REINCKE | NICOLAS | OLIVER
REISINGER | MARGIT
REISNER | MIKE | MARCEL
REISS | STEPHAN
REITZNER | SIBYLLA | GERLINDE
RELLSTAB | KATHERIN
REMEIKAITE | JULIJA
RENNHARD | STELLA | JOYCE
RENZ | GUNTA | RUBENE
RESHEF | EILON
REVILLON | CORINNE | FRANCOISE
REYES | MAKI
REYES | SAWAKO | FURUKAWA
RHO | YOON | HEE
RHODES-YOUNG | NICOLA
RHYMER | JUDITH | M.
RICHARD | MARNE MARLENE | Y.
RICHARDSON | STEPHEN | LESTER
RICHENS | DANIEL | JAMES
RICHENS | ELIZABETH | MARIE
RICHENS | SIMON | PETER
RICHMOND | JUSTIN | JEROME
RICHMOND | MILDRED | ELLEN
RICHTER | RALPH | MICHAEL
RICKER | JOHN | MALCOLM
RIDDELL | ELIZA | NAOMI
RIESEBRODT | MAX
RIGO | VINCENT | DENISE
RIJKEBOER | JAN | GERARD LEONARDUS
RING | KRISTEN | LOUISE NIST
RINTOUL | CLAUDIA | ROMANA
RIPPLINGER | ISABELLE
RIQUE | RODRIGO | RIBEIRO
RITCHIE | JUDITH | LILA
RITONJA | LAURA | MIRIAM
RITZ | ANDREAS | CHRISTOPH
RIZET | DAMIEN | JOHN MANUREVA
ROBB | DOUGLAS | KEITH
ROBERTS | JAYNE | L.
ROBERTS | NEDRA | ANN
ROBERTSON | DAVID | C.
ROBERTSON-LAXTON | LESLEY | ANN DENISE
ROBIN-BOWMAN | RACHEL | LYNN
ROBINSON | ALEXANDER
ROBINSON | ALIDA | SUSAN
ROBINSON | ANN | CHAPMAN
ROBINSON | GRACE | NORDLINGER
ROBINSON | JANE | HIPPISLEY
ROBINSON | JETHRO | MALCOLM
ROBINSON | LISA | JANE
ROBINSON | LORRAINE | C.
ROBINSON | TERRENCE | J.
ROCHE | EDGAR | HEINZ
RODRIGUEZ | MARIA | R.
ROEBERS | JOHANNES | R.
ROETHLISBERGER | ANDRE | ALFRED
ROGE | VIANNEY | L.
ROGERS | ANGUS
ROHLEDER | ALEXANDER | MAARTJE
ROLDAN | TONATIUH
ROLDAN | XIMENA
ROLLINSON | BARBARA
ROLOFF | TANIA
ROMANYCIA | GAYLENE
RONCHI | CHRISTIAN
RONDEAU | JOSEE
RONG | QIONG | ZHEN
RONNHOLM | THOMAS
ROPPSTEIN | PASCAL | FRANCIOS
ROSE | SUTRINA | JELITA
ROSENMEIER | SCOTT | MATHEW
ROSERIE | HAFID | T.
ROSS | LOUISE
ROW | CHARLES | PHILIP
ROWSELL | TIMOTHY | R.
ROY | ANDREW | G.
ROY | JEREMY | BYCK
ROY | KENTARO
ROY | RAHUL
ROZEBOOM | STEVEN | LLOYD
ROZENTAL | RUBY | RAIN
RUDICK | TODD | DAVID
RUEGER | MICHAEL | H.
RUELLE-BIOLLEY | LAURENCE
RUMAK | CAROL | A.
RUMAK | MICHAEL | J.
RUMJAHN | NADIA | CHEUK YAN
RUSH | ADAM | J.
RUSH | SIMON | P.
RUSHTON | VICTORIA | LOUISE
RUSK | GARRETT | LEE
RUSSELL | ALEXANDER | F.
RUSSELL | JAMES | C.
RUSSELL | JOHN | B.
RUSSELL | MEGAN | J.
RYAN | GAIL | IONE
RYAN | PHOEBE | HAMMOND
RYBAK | MICHAEL
RYU | HEE | KYONG
S LAENNEC | ISABEL | CATHERINE MYA
SAAR | MARTIN | O.
SABAN | MARC | RAPHAEL
SADAMASA | TOSHIKO
SAGALA | SAORI
SAHA | AMIT | KUMAR
SAHAMI-MALMBERG | MASOUMEH
SAITO | MAKOTO
SAJOUS | KATIA
SAKURAI | MOTOAKI
SALCE | LUCA | PAOLO
SALOMON | CARROLL | DE VORE LIEDTKE
SALT | BRENDA | J.
SALVADO | OLIVIER | PHILIPPE
SAM | ANDRES
SANCHEZ | BERNABE | NAFFZIGER
SANCHEZ | JAZMIN
SANDO | SHIGERU
SANO | LTSUKO ITSUKO
SARDINA | JORGE | ENRIQUE
SARO | JUHA | S.
SASAKI | YUJI
SASSA | ATSU
SASSA | MASAFUMI
SASSEVILLE | RACHEL
SATO | TOMOHIKO
SATOH | IKUKO
SATOH | YOSHIHARU
SAUTER | PETER | CHARLES
SAUTER PEER | MONIKA | NANCY
SAXENA | DEEPAK
SAYED | LEILA
SCAIFE | ALEXANDER | JONATHAN
SCAIFE | GEORGIA | ANNELISE
SCEARCE | BRIAN
SCEARCE | ROBIN
SCHAEFER | SIMON | MANUEL
SCHAETZ-KRUFT | TANJA | Y.
SCHALK | GERTRUDE | L.
SCHALK | SVEN | G.
SCHALK | WILLI | G.
SCHAPIRO | SHEILA | AINSBURY
SCHAUS | DAVID | JOHN
SCHERER | ELIZABETH | CLARA
SCHERRER | NORMAN | ANDREAS
SCHIFFNER | LESLIE-JOY
SCHILLEREFF | HERBERT | SCOTT
SCHINDLER | SOPHIA | KATHRIN
SCHITTNY | BASTIAN | S.
SCHJAERVE | ANNE | CARINE
SCHLAGETER | THOMAS | PAUL
SCHLOESSER | MARIE
SCHLOSSMACHER | MICHAEL
SCHLUETER | FELIX | MATTHEW
SCHLUETER | NIKLAS | CLAYTON
SCHLUETTER | JENS-UWE
SCHMAUS | M | RADZI
SCHMID | ALEXANDRA
SCHMID | CHRIS
SCHMIDT | ALEXANDER | CLAUDIA
SCHMIDT | COLIN | FRANK
SCHMIDT | GERHARD
SCHMIDTCHEN | MARTINA | SUSAN
SCHMIDTKE | OLIVER
SCHNEIDER | RITA | E.
SCHNEIDER | TIM | CONSTANTIN HENRY
SCHOBER | EVA-MARIA
SCHOCH | WERNER
SCHROEDER | EUGENE | NICK
SCHUDER | OFELIA | MARGARITA
SCHULTZ | KENT
SCHULZ | OLIVER | HERBERT
SCHURMANN | MELCHIOR | NIKLAUS
SCHWARZ | STEFFEN
SCOTT | JEANNE-MARIE
SCRAMONCINI | MARKUS
SEE LO | CARMEN | WAI
SEEMAN | LORAND | MARC
SEETCH | LAURA YUET | LIN
SEKIYA | MASAKAZU
SELLAF | BOUMEDIENE
SEMCHUK | KAREN | LORI
SENDA | TAKUMA
SEOK CHOI | HOWARD | HYUN
SEOW | ALEXANDER | PEI YUAN
SERBAN | ALEXANDRA | PLETTENBERG
SERVAIS | SANDIE
SETIADARMA | RATNASISKA
SETT | SUVRO
SHACHAR | DANIEL | YOSEPH
SHACHAR | ELAD | ITZHAK
SHAH | BADAL | S.
SHAH | HIMANI
SHAH | PRITI | S.
SHAH | RAJ | BAHADUR
SHAH | RUPAL | R.
SHANAJ | HERA
SHANI | REBECCA | LEA
SHARMA | ANVITA
SHARON | ILAN
SHARP | KIMIKO-MIYAZAKI
SHAW | DAVID | SPENCER
SHAW | DAVID | VANCE
SHAY | IZHAR
SHAYA | SLAIMAN | SALEH
SHELDON-ALLEN | CAROLYN | WENDY
SHELDON-ALLEN | MARK | BRIAN
SHELLING | TIM | OTHEUS
SHEPHERD | MARTIN | CHRISTOPHER
SHERIDAN | SARAH | L. ROBAYO
SHERWIN | YOEL | YACOV
SHIBAO | FLAVIO
SHIBAO | JACIGUARA | SANTOS
SHIBATA | YASUKO
SHIBATA | YUTAKA
SHIBUYA | TAKENORI
SHIELDS | DINAH | JANE
SHIELDS | JOHN
SHILLING | JACK | LODELLE
SHILONI | ASSAF
SHIM | DAVID | YONG
SHIM | YONG | KOO
SHIMA | CHIKAKO
SHIMADA | TAKUMI | ROBERT
SHIMOHORI | TAKIKO
SHIRASAKI | YASUHIRO
SHIU | ZOE | YU
SHONG | HIROKO
SHUNE | MINAMI
SICHLAU | KATRINA
SIDDIQUI | HASSAN | I.
SIDDONS | ELIZABETH | RUTH
SIEBES | MARIA
SIEGEL | JEFFREY | ALAN
SIEREVELD | FRANK
SIGRIST | DANIEL
SILVA | JORGE | L. ESPIRITO SANTO
SIMMONS | DEBORAH | LEE
SIMMONS | JONITA | CHERAINE
SIMMONS | RICHARD | J.
SIMON | FABIENNE | GENEVIEVE
SIMON-KELLER | ELKE | MARGARETE
SIMPSON | DAVID | A.
SIMPSON | JASON | ROBERT
SINHA | SANDEEP
SIPPLE-ASHER | MICHAEL | JOHN
SIRMAN | YULIANA
SITTER | LAURA | MADELEINE
SKEINI | ANDERS
SKINNER | MYLES | L.
SKJEKKELAND | ATLE
SKOVROR | AMY | LEAH
SLADEK | WOLFGANG
SLAPIN | AURELIJA
SLUSARSKI | STEVEN | EDWARD RAY
SMALLHORN-WEST | PATRICK | FOSTER
SMITH | ANTHONY
SMITH | CAROLE | J.
SMITH | LISA | MICHELLE
SMITH | MARK | A.
SMITH | MICHELLE | TARA
SMITH | OLIVIA | GRACE
SMITH | PETER | W.
SMITH | TANIA | M.
SMITH | VICTORIA
SMITS VAN DER VEN | MARIA
SNETHEN | LETTY | ANN
SNOOK | JULIE | P.
SNYDER-GOEGELMANN | MARTINA | H.
SOBRADO | CARLOS | EDUARDO
SOH | WILLIAM | T.
SOL | BERNARD | J.
SOLOMON-FUKE | OKSANA | LIDA
SOLURI | ROSANNA
SON | JENNIFER | LISA
SONNENBURG | DORIS | MARTHA
SOO | WAI | K.
SOONG | WEN-BING
SOUTHGATE | GLENN | ANDREW
SPARK | COLIN | J.
SPEARIN | LAURIE | A.
SPEIRS | AISHA | E.
SPENCER | MARGARET | ANNE
SPIERINGS | JULIAN | ARTHUR
SPITZ | YURI | M.
SPOERLEIN | BERNARDITA | J.
SPOERLEIN | GUENTER | V.
SPRABARY | TRAVIS
SRIDHAR | JAYANTH
SRINIVASAN | KRISHNAN
SRINIVASAN | RAMESH
STACCHINI | SECONDO
STACCHINI | STEFANO
STACEY | VIRGINIA | LOUISE
STADLER | HEIDI
STADTLER | JOELLA | GRETCHEN
STAMENOV | IVAN | V.
STAMPER | DAVID | R.
STAMPER | SALLY | P.
STANFIELD | MISHAEL | ANTHONY
STANKIEWICZ | BOGDAN | ARTUR
STANKIEWICZ | KATARZYNA
STANLEY | RITA | M.
STANOJEVIC | MARKO
STAPLES | SUSAN | E.
STARK | ANDREW | EMIL
STAUDACHER | ANDRES
STEARNS | LUBICA
STEGMANN | CHRISTIAN
STEINKOLER | LILO | DIANE SYLVAN
STENBECK | JOAKIM | C.
STENBERG-DALENSTAM | SOFIA | E.
STEPHENS | COLIN | MICHAELS
STEPHENS | GREGORY | DALE
STEPHENSON | MELANIE | A.
STEPHENSON | ROBERT | J.
STERN | HAGAY
STERVINOU LE BERRE | JEANNE | DENISE
STEVEM STEVEN | UMSEU CLAIRE | A.
STEVEN | DAVID | J.
STEVENSON | LESILE | ERIN
STEWART | ALISON | T.
STEWART | COLIN | W.
STEWART | SUSAN | M.
STEWART | TRACEY | ELIZABETH
STILLEROVA | SOPHIA
STILLHART | EDITH
STING | HEIDI | HELENE
STIVER | JOHANNA | KRISTVEIG
STOLTZ | CONRAD | W.
STONE | DOUGLAS | ANTHONY
STORK | CAROLIEN | MAARTJE
STRAUSS | CHIKAKO
STREET | GAVIN | MORE
STRUNK | DOROTHEA | GISELA
STUBBS MD | PETER
STUETZLE | EVA | RENATE
STYLIANOPOULOS | CHRYSSANTHI | L.
SU | YAO-TIAN
SUESS | KATARINA | CLARE
SUESS | SARINA | NAOMI
SUEYOSHI | KYOKO
SUEYOSHI | TSUGIO
SUGAI | SUZUMU
SUGAYAMA | YOSHIE
SUGIMURA | KANICHI
SUGIMURA | SHIZUKO
SULTAN | JAIFER | NABEEL
SULTAN | JIHAN | NABEEL
SULTAN | LAYAL | NABEEL
SUN | HAO | H. S.
SUNG | ALAN | Y.
SUNG | PAI | Y.
SUNG | QUO | C.
SUNG | WEN | NING
SUNG | YOUNG | SOOK
SURCHAT | MELANIE | MURIELLE
SUTER | CORINNE | JOAN
SUTER | PASCAL | FREDERIC
SUZUKI | ERI
SWAIN | SEAN
SWAIN | TRACEY
SWIATEK | CLAUDIA | LOUISE
SWIATEK | MICHELLE | LOUISE
SWIATLOWSKI | DIANE
SWINIARSKI | CHARLES
SWOBODA | ISIS | CHANTELLE
SYKUTA | JON | D.
SYMES EARLE | JONATHAN | ASHLEY
SZCZECHURA | PAUL
SZYFTER | BEATA
TADA | CHIEKO
TADA | HIROKO
TADA | SEIGO
TAI-POW | KAREN | ANN
TAIT | LINDA
TAKAHASHI | HIDEO
TAKAHASHI | YASUHITO
TAKASAWA | YOSHIKO
TAKEMURA | KAZUKO
TAKEMURA | KEITA
TAKEMURA | TOMOYUKI
TALESH | JUSTIN | B.
TAMURA | ALVARO | J.
TAN | ABIGAIL
TAN | ANDREW | GIM-HAN
TAN | COLETTE | SZERUI
TAN | ENG | TONG
TAN | JOLENE | SI HUI
TAN | TIONG | HIAN
TAN | WEE | KEAT
TAN | ZHENWEN | TINA
TANAKA | MIKI
TANAKA | YASUKO
TANG | CHIEH
TANIE | HIROSHI
TANIGAWAS | KAORU
TANIGAWAS | MIYUKI
TARASAWA | SADAKO
TARDIF | MANON
TASHIRO | FUMIKO
TASHIRO | SHUNJI
TATLOCK | EMMA | LEE
TAVEROFF | ALAN
TAVEROFF | ARLENE
TAYLOR | BRITTANY | KRISTEN
TAYLOR | IAN | S.
TAYLOR | MARION | C
TAYLOR | ROBERT | M.
TAYLOR | STEVEN | WARREN
TELEPAK | THHOMAS | NEIL
TEMPORETTI | VANESSA | F.
TER HAAR | TIZIANA
TERLOUW | GERRIT
TERLOUW | GISELA | K.
THARM | SEET-YEOW | E.
THAWLEY | MICHAEL | J.
THAYER | MIEKO
THEALL | MARGARET | ROSE
THEBAULT | STEPHAN
THEVENET | CLOVIS | LOUIS
THOMAS | NORMAN | R.
THOMAS | PEGGY | LYNN
THOMAS | ROBERT | N.
THOMPSON | DIANE | CHANDLER
THOMPSON | JOHN | CHARLES
THOMPSON | SHANE | WILLIAM
THOMPSON | WILLIAM | ROBERT
THOMSON | CLARE | SUSAN
THORNE | JANET | MARIE
THORNE | SHEILA | RAE
THORNTON | SUSAN | MARY
THURLIMANN | CHRISTOPH | BRUNO
TICZON | JULIANA | BELEN L
TIERNY | JANE | FRANCE CLEMENTINE
TIKKU | SANJAY
TING | MARC | F.
TING | MEI-LING
TING | YU-PEI
TISCHLER | LEE | PATRICIA
TJAHAJA | AMIR
TJANDRA | MATTHEW | NATHAN
TJEKNAVORIAN | JULIA | H.G.
TODD | MITSUE
TOGAWA | SETSUKO
TOGAWA | TATSUJI
TOH | DILLON | YAN TING
TOH | MARKUS | JUN SHENG
TOKUNAGA | SHURI | VENETIA
TOMISHIMA | AKANE
TOMISHIMA | NOBUHIKO
TOMITA | KENJI
TOMLINSON | COLIN | H.
TONG | LISA
TONG | TERRANCE | MANCHUN
TOV | ORLY | SIMAN
TOWNER | DARLENE
TOWNSEND | RENA
TRAFFORD | SUSAN | DAWN
TRAUTWEIN | BERNHARD
TREMBLAY | MARC
TREPANIER | RACHEL
TRILOFF | MELODY | MIRIAM
TRILOKEKAR | VIKRANT | S.
TRIPATHY | RAVI
TROMBETTA | DAVID | PAUL
TROMBLEY | EMMYLOU
TRONZA-ILLY | HELEN | MARGARET
TRUSWELL | BYRON | M
TRZEBINSKI | GABRIELA
TSAI | CHING | T.
TSCHERNER | ANDREAS | MORRIS ANTON
TSUCHIYA | HIROYUKI
TSUI | MICHELLE | MAN SAN
TU | AMY
TUCKER | GILLIAN | ANNE
TUMMALA | SIRISHA | P.
TUNG | BRIAN | PHIL
TURANO | LESILE | PAM
TURKOGLU | GUCLU
TURNER | BRICE
TURNOCK | KATHLEEN | MARIE
UCHIDA | NORIKO
UCHIKAWA | YURI
UCHIMARU | HISAKO
UCHIMARU | TOSHIHIKO
UCHIYAMA | YUKO
UEBLAGGER | ELLEN | MARIA
UEDA | TAKESHI
UEKI | ATSUSHI
UPCHURCH III | CHARLES | WOODFIN
URASE | YUKO
URBACH | STEVEN | JAY
UREN | ALEXANDRA | MARGARET
URSINY | PAVEL
USUI | MASAHIRO
VALENTE | CHRISTINE | MADELEINE
VALENTI | GIUSEPPE
VALERI | KARIN
VALLE RODER | IDA | JENNIFER
VAN BEERS | NATALIE | JOSPEHINE PETRA
VAN BOETZELAER | CAREL | NICHOLAS
VAN DEN BRANDE | CARL | AUGUST DANIEL
VAN DER LANDE | ANNEMARIE | JOY MONIQUE
VAN DER SCHEER | SASKIA | CLASINA
VAN DER VEN | HENRICUS | J.
VAN DER WAL | HENDRIKA | A.
VAN DOMSELAAR | BASTIAAN | MARK
VAN DOMSELAAR | JOHANNES | M.
VAN DOMSELAAR | MARJOLIJN
VAN DOMSELAAR | MAX | DANIEL
VAN DORTH-WOELTGENS | CAROLINE
VAN DRUMPT | MANON | LOUISE
VAN JUREC | MELANIE | ADELE
VAN ROOSENDAAL | SIMON | JOHN
VANDEWATER | ANDREA | L.
VANDINI | MAURO
VANKERHOVEN | ELIZABETH
VANWYK | THEODORE
VASQUEZ | MARIO | L.
VASQUEZ | SANDRA | P.
VASWANI | JYOTI | D.
VAUGHN | ALLEN | DWAYNE
VAUGHN | CYNTHIA | ANN
VAZQUEZ | JOSE | AGUSTIN
VAZQUEZ | JUANA
VEENSTRA | PHILIP | JOHN
VEILLEUX | MIREILLE
VENTURA | LORNA | NG
VENUTO | FRANK
VETTOR | ALESSANDRO
VICKE GLINZ | MORTIMER | HANS MAGNUS
VIGILEOS | GEORGE | HENRY
VIGILEOS THEODORAKIS | EVANGELINE | LINDA
VIGMOSTAD | SVERRE | TOBIAS
VILLARS | MARC JEAN | LOUIS
VISWANATH | SRI | GUHA
VIVIAN | BENJAMIN | J.
VIVIAN | GERMAINE
VOLARD | CHRISTOPHE
VOLARD | LOUIS
VOLLEBREGT | NICOLE | TERESA
VON PLOTHO | DIANE | AUDE RUTH
VON SIEBENTHAL | CRISTELLE | JOANN
VON WYL | ALEX | JOHN
VON WYL | FEREN | RAY
VONTOBEL | MONIKA | A.
VOS | KOEN | BERNARD
VRABLIC | DAWN | HEATHER
WACKERNAGEL | CHRISTA
WACKLER | DONNA | ANNETTE
WADA | KYOMI
WADA | NAOMI
WADE | GILLIAN | A.
WAGH | TRUPTI
WAGNER | SALLY | M.
WAGNER | TIFFANY | TARYN
WAGNER-BARTAK | NADINE
WAHLGREN | SYLVIA | A.
WALIMOHAMED | FARIDA | M.
WALKER | ANNE
WALKER | EMILY | A.
WALKER | TIMOTHY
WALL | ALYS | M.
WALTER | STEFAN.
WALTERS | ASNY | W.
WALTERS | JOHN | H
WAMPLER | PHILIPPE | ANDREW
WAN | YIQING
WANG | AH | SENG
WANG | CHING | CHU
WANG | DAPENG
WANG | HONGYAN
WANG | KEFEI
WANG | LI | TIEN
WANG | MARILYN | MAY-MAN
WANG | TIMOTHY
WANG | XIAO | XING
WANG | YINGBIN
WANG | ZHENYU
WANKLYN | JAN
WARD | NICOLE | MARIE
WARE | DARYL | YEO ZIWEN
WARNER | ANN | SUNESON
WARRIKOFF | MICHAEL | ALEXANDER
WASSINK | MARCEL | GORDON
WATANABLE | KENTA
WATASE | REIKO
WATKINS | RHYS
WATSON | TREVOR | W.
WAXER | MICHELLE | LYNN
WAXER | SUSAN | RAE
WEATHERHEAD | ANDREW
WEATHERHEAD | JULIE
WEATHERHEAD | PATRICK | J.
WEATHERHEAD | SAMANTHA
WEAVER | GEMMA | KATE
WEAVER | RICHARD | R.
WEAVER | RICHARD | RYAN
WECHSLER | JORIS | BRUNO
WEDER | ANDREA | C.
WEDER | MARKUS | C.
WEE | HO | SUN
WEE | HYUN | JU
WEENEN | SAMUEL ULRICH | DE LEEUW VAN
WEISS | JUDITH | HELEN
WELFARE | LESLIE
WELFARE | RICHARD
WELL | TAL | JACOB
WELLS | OLIVIA | VAN CORTLANDT
WELTON | DARLENE | ALICE MAY
WELTON | LUCAS | ALAN
WENG | FAN
WENINGER | ROBERT | KARL
WENTZELL | KATHERINE
WESTWOOD-MARSH | SIMON
WEVERING | SIEGFRIED
WHEELER | SANDY
WHITE | ADRIAN | STANLEY
WHITE | BAZEL | M.
WHITE | CATHERINE | M.
WHITE | CHRISTINE | M.
WHITE | DONA | JUNE
WHITE | GEOFFREY | A.
WHITE | GINA | EVELYN JANICE
WHITE | HAYLEY | DIANE
WHITE | PATRICIA | MARIE
WHITE | REBECCA | ELIZABETH
WHITE | RICHARD | J
WHITE | STEPHANIE | M.
WHITE | TYLER | DEVRIES MARSHALL
WHITMAN | DEMING
WHORTON | ERIC | ABRAHAM
WHYTE | IAN | WILLIAM
WICHMANN | FABIENNE | CORINNA
WIDJAJA | VICTORIA | TANIA
WIELAND | ANNE | MORRIS
WIJERATNE | SAMINDA | RAJITH
WILCOX | GILLIAN | PAMELA
WILD | PETER
WILDBERGER | MANUEL | D.
WILHELM | TOOD | KORRY
WILLE | MAIXNE
WILLERS | LISA | MARIE
WILLIAMS | DEAN
WILLIAMS | HELEN | L.
WILLIAMS | SELINA | J.
WILLIAMSON | KIMBERLY | ANN
WILLSALLEN | TIMOTHY | GIDLEY
WILSON | CHARLES | CHRISTIAN
WILSON | DOUGLAS | J.
WILSON | ROBERT | DAVID
WINDISCH | ELEONORA
WINFIELD | TERESA | LOUISE
WINSTON | JEROME | ALPINER
WINTER | ANNE
WIT | ALEXANDER | CHIA MEI
WITSCHI | DANIEL
WITSCHI | NICHOLAS | PETER
WOELTGENS | PIETER
WOICEK | TIMOTHY | WILLIAM
WOLD | INGRID | GERTRUDE LOUISE
WOLF | ANDREAS
WOLF | FLORIAN | TOBIAS JOHANNES
WOLF | ODET
WOLFE | ELIZABETH | JOANNE
WOLK | YAAKOV | ISRAEL
WOLLBACHER | CHRISTINA | DOLORES
WOMACK | MASON | AMACKER
WONDRA | BRADDEN | PHILLIP
WONG | CELINA | ERN-MEI
WONG | ELAINE | M.
WONG | ELLA | B.
WONG | JACQUELINE | LAIMEN
WONG | JOHANN | S.
WONG | JONATHAN | TSE-JIEQ
WONG | LAI | LAI LILY
WONG | LAI | LAI LILY
WONG | SERENA
WONG | SUZANNE | TONI
WONG | YIN | HUEY
WONGSRIKASEM | VICHAI
WONKA | PETER
WOO | NICOLAS | DARREN
WOOD | TIMOTHY | JOHN
WOODWARD | CARTER | WILSON ARELLANO
WORMUTH | KENNETH | EDWARD
WORRALL | IAN | MICHAEL
WRAGGE | KIMBERLY | CAVE
WRAZEJ | CHRISTOPHER | PAUL
WREN | SHIRLEY
WRENCH | ALAN | J.
WRENCH | HEIDRUN | M.
WRIGHT | CELIA | M.
WU | BIN
WU | JESSA | CHING-MAN
WU | JINGYANG
WU | JUN
WU | JUN
WU | LING LING
WU | PEI | DONG
WU | PETER | SHIXIONG
WU | TAO
WU | WENXIANG
WU | XIAOYI
WUERMLI | ANTHONY | FREDERICK
WUERTZ | STEFAN
WUEST | VERONIKA
WULLSCHLEGER | CHELSEA | JEANNE
WYNNE | EMILIE
WYSOCKI | JOHN
XIAO | RIMING
XIAO | WEI
XING | WENHUA
XU | GUOQIANG
XU | JIANFENG
YACOUB | ANDREW | NICHOLAS
YAGI | SHIGEO
YAHYA | NIHAD | ALI
YAJIMA | MASATOSHI
YAMADA | TAKASHI
YAMADA | YOKO
YAMADA | YUKARI
YAMAGATA | SHIZUKA
YAMAMOTO | IKUKO
YAMAMOTO | MAKIKO
YAMAMOTO | MICHIYO
YAMAMOTO | TOSHIMASA
YAMANE | MIME
YAMANISHI | HIROKAZU
YAMASHITA | JUNICHI
YAMASHITA | MACHIKO
YAMATOMO YAMAMOTO | HISASHI
YAN | ZAIQIANG
YAN NG | YUN
YANAGISAWA | EITA
YANAGISAWA | TETSUO
YANG | CHIUNG | MING
YANG | JACK
YANG | JACK
YANG | KEVIN | SIK HIN
YANG | ORCHID
YANG | STARETT | RENSON
YANG | SUSAN | SUHAN
YANG | TIFFANY | SIK YI
YANGUAS | SONIA
YASU | JIRO
YASU | MAIKO
YASUI | KUMIKO
YAZAWA | TAKESHI
YE | BETTY | SHANG QING
YECHOURON | ARIANE
YEE CHIU | VENNIE | WAI
YEH | CHARLES | SUHAO
YEH | DEBBIE | T.
YEO | JUSTIN | QIANYU
YERMAN | TODD | JEREMY
YETKIN | DERVIS | A.
YETKIN | MARINA
YIP | EDWIN | MONG CHUN
YIP TSANG | WAI YAI | RITA
YOKOI | HIROMASA
YOKOI | TAMIKO
YOKOTA | KONICHI
YOKOTA | NATSUKO
YONEDA | HIDEKI
YONEDA | KAZUKI
YONEDA | MAMI
YONEDA | YU
YOON | JONG | MAN
YOSAKA | YOJI
YOSHIBA | SHIGEYOSHI
YOSHIDA | CHIKA
YOSHIDA | CHIKA
YOSHIDA | KIKUYO
YOSHIDA | MASAYASU
YOSHINO | KOUICHI
YOSHINO | SHIZUKO
YOW | VIVIAN | MAY WING
YU | KIT | YING
YU | PETER | TAT WING
YU | RONNIE
YUAN | SHUBING
YUENG | KAR | YAN
ZABOJNIK | JAN
ZAMIR | ASAF
ZAMORANO GALLEGO | JORGE | A.
ZARRABI | JOUBIN | ADL
ZARRILLO | MARIA | M.
ZEISBERGER | KARL | HEINZ
ZEISBERGER | MARGRIT
ZELLWEGER | NICOLE | JOY
ZENDEJAS | VERONICA | P.
ZHANG | AMY
ZHANG | BINGMEI
ZHANG | QING
ZHANG | QING
ZHANG | SHAORONG
ZHANGQ ZHANG | WENGAO
ZHAO | XINGE
ZHAO | YILU
ZHENG | GENGLIN
ZHENG | LIU
ZHENG | YINGYU
ZIRNGIBL | MICHAEL
ZLOCHOVER | NIR
ZMOOD | SIMONE | ELEESHEVA
ZUAN | FILIP
ZUCCA | CESARE | GIUSEPPE
ZUESSE | EVAN | MAJOR
ZUPNIK | ERAN
ZWICKY | STEFAN | THOMAS

Dated: May 4, 2020.
Pamela Ross,
Manager, Classification Team 82413, Examinations Operations—Philadelphia Compliance Services.

[FR Doc. 2020-09814 Filed 5-7-20; 8:45 am]

BILLING CODE 4830-01-P